DEPARTMENT OF HOUSING AND URBAN DEVELOPMENT

[Docket No. FR-4557-N-09]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage floor plan, existing sanitary facilities, exact street address), providers should contact the appropriate landholding agencies at the following addresses: AIR FORCE: Ms. Barbara Jenkins, Air Force Real Estate Agency, (Area—MI), Bolling Air Force Base, 112 Luke Avenue, Suite 104, Building 5683, Washington, DC 20332-8020; (202) 767-4184; DOT: Mr. Rugene Spruill, Principal, Space Management, SVC-140, Department of Transportation, 400 7th Street, SW, Room 2310, Washington, DC 20590; (202) 366-4246; VA: Mr. Anatolij Kushnir, Director, Asset & Enterprise Development Service, 181B, Department of Veterans Affairs, 811 Vermont Avenue, NW, Room 419, Lafayette Bldg., Washington, DC 20420; (202) 565-5941; (these are not toll-free numbers).

Dated: February 24, 2000.
Fred Karnas, Jr.,
Deputy Assistant Secretary for Special Needs Assistance Programs.

TITLE V, FEDERAL SURPLUS PROPERTY PROGRAM, FEDERAL REGISTER REPORT FOR 3/3/00

Suitable/Available Properties

Buildings (by State)

California

Bldg. 604

Point Arena Air Force Station

Co: Mendocino CA 95468-5000

Landholding Agency: Air Force

Property Number: 18199010237

Status: Unutilized

Comment: 1232 sq. ft.; stucco-wood frame; most recent use—housing

Bldg. 605

Point Arena Air Force Station

Co: Mendocino CA 95468-5000

Landholding Agency: Air Force

Property Number: 18199010238

Status: Unutilized

Comment: 1232 sq. ft.; stucco-wood frame; most recent use—housing

Bldg. 612

Point Arena Air Force Station

Co: Mendocino CA 95468-5000

Landholding Agency: Air Force

Property Number: 18199010239

Status: Unutilized

Comment: 1232 sq. ft.; stucco-wood frame; most recent use—housing

Bldg. 611

Point Arena Air Force Station

Co: Mendocino CA 95468-5000

Landholding Agency: Air Force

Property Number: 18199010240

Status: Unutilized

Comment: 1232 sq. ft.; stucco-wood frame; most recent use—housing

Bldg. 613

Point Arena Air Force Station

Co: Mendocino CA 95468-5000

Landholding Agency: Air Force

Property Number: 18199010241

Status: Unutilized

Comment: 1232 sq. ft.; stucco-wood frame; most recent use—housing

Bldg. 614

Point Arena Air Force Station

Co: Mendocino CA 95468-5000

Landholding Agency: Air Force

Property Number: 18199010242

Status: Unutilized

Comment: 1232 sq. ft.; stucco-wood frame; most recent use—housing

Bldg. 615

Point Arena Air Force Station

Co: Mendorino CA 95468-5000

Landholding Agency: Air Force

Property Number: 18199010243

Status: Unutilized

Comment: 1232 sq. ft.; stucco-wood frame; most recent use—housing

Bldg. 616

Point Arena Air Force Station

Co: Mendocino CA 95468-5000

Landholding Agency: Air Force

Property Number: 18199010244

Status: Unutilized

Comment: 1232 sq. ft.; stucco-wood frame; most recent use—housing

Bldg. 617

Point Arena Air Force Station

Co: Mendocino CA 95468-5000

Landholding Agency: Air Force

Property Number: 18199010245

Status: Unutilized

Comment: 1232 sq. ft.; stucco-wood frame; most recent use—housing

Bldg. 618

Point Arena Air Force Station

Co: Mendocino CA 95468-5000

Landholding Agency: Air Force

Property Number: 18199010246

Status: Unutilized

Comment: 1232 sq. ft.; stucco-wood frame; most recent use—housing; needs rehab.

3 Bachelor Enlisted Quarters

U.S. Coast Guard Station

Humboldt Bay

Samoa CA 95564-9999

Landholding Agency: DOT

Property Number: 87199810001

Status: Unutilized

Comment: 2550 sq. ft. each, 2-story, wood, most recent use—residential, needs rehab, off-site use only

Colorado

Bldg. 964

Former Lowry AFB

Denver Co: CO 80220-

Landholding Agency: Air Force

Property Number: 18199930016

Status: Unutilized

Comment: 14,495 sq. ft., local land use controls, most recent use—child care/kitchen facility

Idaho

Bldg. 516

Mountain Home Air Force Base

Mountain Home Co: Elmore ID 86348-

Landholding Agency: Air Force

Property Number: 18199520004

Status: Excess

Comment: 4928 sq. ft., 1 story wood frame, presence of lead paint and asbestos, most recent use—offices

Bldg. 2201

Mountain Home Air Force Base

Mountain Home Co: Elmore ID 83648-

Landholding Agency: Air Force

Property Number: 18199520005

Status: Unutilized

Comment: 6804 sq. ft., 1 story wood frame, most recent us—temporary garage for base fire dept. vehicles, presence of lead paint and asbestos shingles

Indiana

Bldg. 105, VAMC

East 38th Street

Marion Co: Grant IN 46952-

Landholding Agency: VA

Property Number: 97199230006

Status: Excess

Comment: 310 sq. ft., 1 story stone structure, no sanitary or heating facilities, Natl Register of Historic Places

Bldg. 140, VAMC

East 38th Street

Marion Co: Grant IN 46952-

Landholding Agency: VA

Property Number: 97199230007

Status: Excess

Comment: 60 sq. ft., concrete block bldg., most recent use—trash house

Bldg. 7

VA Northern Indiana Health Care System

Marion Campus, 1700 East 38th Street

Marion Co: Grant IN 46953-

Landholding Agency: VA

Property Number: 97199810001

Status: Underutilized

Comment: 16,864 sq. ft., presence of asbestos, most recent use—psychiatric ward, National Register of Historic Places

Bldg. 10

VA Northern Indiana Health Care System

Marion Campus, 1700 East 38th Street

Marion Co: Grant IN 46953-

Landholding Agency: VA

Property Number: 97199810002

Status: Underutilized

Comment: 16,361 sq. ft., presence of asbestos, most recent use—psychiatric ward, National Register of Historic Places

Bldg. 11

VA Northern Indiana Health Care System

Marion Campus, 1700 East 38th Street

Marion Co: Grant IN 46953-

Landholding Agency: VA

Property Number: 97199810003

Status: Underutilized

Comment: 16,361 sq. ft., presence of asbestos, most recent use—psychiatric ward, National Register of Historic Places

Bldg. 18

VA Northern Indiana Health Care System

Marion Campus, 1700 East 38th Street

Marion Co: Grant IN 46953-

Landholding Agency: VA

Property Number: 97199810004

Status: Underutilized

Comment: 13,802 sq. ft., presence of asbestos, most recent use—psychiatric ward, National Register of Historic Places

Bldg. 25

VA Northern Indiana Health Care System

Marion Campus, 1700 East 38th Street

Marion Co: Grant IN 46953-

Landholding Agency: VA

Property Number: 97199810005

Status: Underutilized

Comment: 32,892 sq. ft., presence of asbestos, most recent use—psychiatric ward, National Register of Historic Places

Massachusetts

Bldg. 001

Air Natl Guard Station

50 Skyline Drive

Worcester Co: MA 01605-2898

Landholding Agency: Air Force

Property Number: 18199940001

Status: Excess

Comment: 37,557 sq. ft., most recent use—shops/vehicle maintenance

Bldg. 002

Air Natl Guard Station

50 Skyline Drive

Worcester Co: MA 01605-2898

Landholding Agency: Air Force

Property Number: 18199940001

Status: Excess

Comment: 5,580 sq. ft., most recent use—office/shops

Bldg. 003

Air Natl Guard Station

50 Skyline Drive

Worcester Co: MA 01605-2898

Landholding Agency: Air Force

Property Number: 18199940003

Status: Excess

Comment: 3,840 sq. ft., most recent use—warehouse

Bldg. 004

Air Natl Guard Station

50 Skyline Drive

Worcester Co: MA 01605-2898

Landholding Agency: Air Force

Property Number: 18199940004

Status: Excess

Comment: 225 sq. ft., most recent use—shop

Bldg. 005

Air Natl Guard Station

50 Skyline Drive

Worcester Co: MA 01605-2898

Landholding Agency: Air Force

Property Number: 18199940005

Status: Excess

Comment: 8000 sq. ft., most recent use—warehouse

Nebraska

Bldg. 20

Offutt Communications Annex 4

Silver Creek Co: Nance NE 68663-

Landholding Agency: Air Force

Property Number: 18199610004

Status: Unutilized

Comment: 4714 sq. ft., most recent use—dormitory needs major repair

New York

Bldg. 1452 & 297 acres

AVA Test Annex

Town of Ava Co: Oneida NY 13303-

Landholding Agency: Air Force

Property Number: 18199920030

Status: Unutilized

Comment: 11,000 sq. ft., on 297 acres (67 acres of wetland), most recent use—electronic research testing, presence of asbestos/lead paint

Bldg. 1453

AVA Test Annex

Town of Ava Co: Oneida NY 13303-

Landholding Agency: Air Force

Property Number: 18199920031

Status: Unutilized

Comment: 266 sq. ft., most recent use—generator bldg., presence of asbestos

Bldg. 1454

AVA Test Annex

Town of Ava Co: Oneida NY 13303-

Landholding Agency: Air Force

Property Number: 18199920032

Status: Unutilized

Comment: 53 sq. ft., most recent use—switch station, presence of asbestos

Pennsylvania

Bldg. 25—VA Medical Center

Delafield Road

Pittsburgh Co: Allegheny PA 15215-

Landholding Agency: VA

Property Number: 97199210001

Status: Unutilized

Comment: 133 sq. ft., one story brick guard house, needs rehab

Bldg. 3, VAMC

1700 South Lincoln Avenue

Lebanon Co: Lebanon PA 17042-

Landholding Agency: VA

Property Number: 97199230012

Status: Underutilized

Comment: portion of bldg. (3850 and 4360 sq. ft.), most recent use—storage, second floor—lacks elevator access

South Dakota

West Communications Annex

Ellsworth Air Force Base

Ellsworth AFB Co: Meade SD 57706-

Landholding Agency: Air Force

Property Number: 18199340051

Status: Unutilized

Comment: 2 bldgs. on 2.37 acres, remote area, lacks infrastructure, road hazardous during winter storms, most recent use—industrial storage

Wisconsin

Bldg. 8

VA Medical Center

County Highway E

Tomah Co: WI 54660-

Landholding Agency: VA

Property Number: 97199010056

Status: Underutilized

Comment: 2200 sq. ft., story wood frame, possible asbestos, potential utilities, structural deficiencies, needs rehab

Land (by State)

Alabama

VA Medical Center

VAMC

Tuskegee Co: Macon AL 36083-

Landholding Agency: VA

Property Number: 97199010053

Status: Underutilized

Comment: 40 acres, buffer to VA Medical Center, potential utilities, undeveloped

California

Land

4150 Clement Street

San Francisco Co: San Francisco CA 94121-

Landholding Agency: VA

Property Number: 97199240001

Status: Underutilized

Comment: 4 acres, landslide area

Iowa

40.66 acres

VA Medical Center

1515 West Pleasant St.

Knoxville Co: Marion IA 50138-

Landholding Agency: VA

Property Number: 97199740002

Status: Unutilized

Comment: golf course, easement requirements

Maine

Irish Ridge NEXRAD Site

Loring AFB

Fort Fairfield Co: Aroostook ME 04742-

Landholding Agency: Air Force

Property Number: 18199640017

Status: Unutilized

Comment: 3.491 acres in fee simple

Maryland

VA Medical Center

9500 North Point Road

Fort Howard Co: Baltimore MD 21052-

Landholding Agency: VA

Property Number: 97199010020

Status: Underutilized

Comment: Approx. 10 acres, wetland and periodically floods, most recent use—dump site for leaves

Massachusetts

.07 acre

Westover Air Reserve Base

Off Rte 33

Chicopee Co: Hampden MA 01022-

Landholding Agency: Air Force

Property Number: 18199840007

Status: Excess

Comment: land, no utilities

Nebraska

Hastings Radar Bomb Scoring

Hastings Co: Adams NE 68901-

Landholding Agency: Air Force

Property Number: 18199810027

Status: Unutilized

Comment: 11 acres

Texas

Land

Olin E. Teague Veterans Center

1901 South 1st Street

Temple Co: Bell TX 76504-

Landholding Agency: VA

Property Number: 97199010079

Status: Underutilized

Comment: 13 acres, portion formerly landfill, portion near flammable materials, railroad crosses property, potential utilities

Wisconsin

VA Medical Center

County Highway E

Tomah Co: Monroe WI 54660-

Landholding Agency: Va

Property Number: 97199010054

Status: Underutilized

Comment: 12.4 acres, serves as buffer between center and private property, no utilities

Suitable/Unavailable Properties

Buildings (by State)

Alaska

Bldgs. 001A&B

Spruce Cape Loran Station

Kodiak Co: Kodiak Is. Bor. AK 99615-

Landholding Agency: DOT

Property Number: 87199720001

Status: Excess

Comment: 12492 sq. ft. steel frame, most recent use—barracks and shops, needs extensive repairs, in Tsunami evacuation area

Colorado

Bldg. 9023

U.S. Air Force Academy

Colorado Springs Co: El Paso CO 80814-2400

Landholding Agency: Air Force

Property Number: 18199730010

Status: Underutilized

Comment: 4112 sq. ft., most recent use—preschool

Bldg. 9027

U.S. Air Force Academy

Colorado Springs Co: El Paso CO 80814-2400

Landholding Agency: Air Force

Property Number: 18199730011

Status: Underutilized

Comment: 4112 sq. ft., most recent use—child care center

Idaho

Bldg. 224

Mountain Home Air Force

Co: Elmore ID 83648-

Landholding Agency: Air Force

Property Number: 18199840008

Status: Unutilized

Comment: 1890 sq. ft., no plumbing facilities, possible asbestos/lead paint; more recent use—office

Indiana

Bldg. 24, VAMC

East 38th Street

Marion Co: Grant IN 46952-

Landholding Agency: VA

Property Number: 97199230005

Status: Underutilized

Comment: 4135 sq. ft., 2-story wood structure, needs minor rehab, no sanitary or heating facilities, presence of asbestos, Natl Register of Historic Places

Bldg. 122

VA Northern Indiana Health Care System

Marion Campus, 1700 East 38th Street

Marion Co: Grant IN 46953-

Landholding Agency: VA

Property Number: 97199810006

Status: Unutilized

Comment: 37,135 sq. ft., presence of asbestos, most recent use—former dietetics bldg., National Register of Historic Places

Iowa

Bldg. 00627

Sioux Gateway Airport

Sioux City Co: Woodbury IA 51110-

Landholding Agency: Air Force

Property Number: 18199310001

Status: Unutilized

Comment: 1932 sq. ft., 1-story concrete block bldg., most recent use—storage, pigeon infested, contamination investigation in progress

Bldg. 00669

Sioux Gateway Airport

Sioux City Co: Woodbury IA 51110-

Landholding Agency: Air Force

Property Number: 18199310002

Status: Unutilized

Comment: 1113 sq. ft., 1-story concrete block bldg., contamination clean-up in progress

Maine

Mount Desert Rock Light

U.S. Coast Guard

Southwest Harbor Co: Hancock ME 04679-

Landholding Agency: DOT

Property Number: 87199240023

Status: Unutilized

Comment: 1600 sq. ft., 2-story wood frame dwelling, needs rehab, limited utilities, limited access, property is subject to severe storms

Little River Light

U.S. Coast Guard

Cutler Co: Washington ME

Landholding Agency: DOT

Property Number: 87199240026

Status: Unutilized

Comment: 1100 sq. ft., 2-story wood frame dwelling, well is contaminated, limited utilities

Burnt Island Light

U.S. Coast Guard

Southport Co: Lincoln ME 04576-

Landholding Agency: DOT

Property Number: 87199240027

Status: Unutilized

Comment: 750 sq. ft., 2-story wood frame dwelling

Massachusetts

Keepers Dwelling

Cape Ann Light, Thachers Island

U.S. Coast Guard

Rockport Co: Essex MA 01966-

Landholding Agency: DOT

Property Number: 87199240027

Status: Unutilized

Comment: 1000 sq. ft., 2-story brick dwelling, large wave action with severe ocean storms

Assistant Keepers Dwelling

Cape Ann Light, Thachers Island

U.S. Coast Guard

Rockport Co: Essex MA 01966-

Landholding Agency: DOT

Property Number: 87199240025

Status: Unutilized

Comment: 1100 sq. ft., 2-story wood frame dwelling, large wave action with severe ocean storms

Plymouth Light

Plymouth Co: Plymouth MA

Landholding Agency: DOT

Property Number: 87199420003

Status: Unutilized

Comment: 250 sq. ft., tower, and 2096 sq. ft. dwelling, wood frame, most recent use—aid to navigation/housing

Michigan

Bldg. 50

Calumet Air Force Station

Calumet Co: Keweenaw MI 49913-

Landholding Agency: Air Force

Property Number: 18199010790

Status: Excess

Comment: 6171 sq. ft., 1 story; concrete block; potential utilities; possible asbestos; most recent use—Fire Department vehicle parking building

Bldg. 14

Calumet Air Force Station

Calumet Co: Keweenaw MI 49913-

Landholding Agency: Air Force

Property Number: 18199010833

Status: Excess

Comment: 6751 sq. ft.; 1 floor concrete block; possible asbestos; most recent use—gymnasium

Bldg. 16

Calumet Air Force Station

Calumet Co: Keweenaw MI 49913-

Landholding Agency: Air Force

Property Number: 18199010834

Status: Excess

Comment: 3000 sq. ft.; 1 floor concrete block; most recent use—commissary facility

Bldg. 15

Calumet Air Force Station

Calumet Co: Keweenaw MI 49913-

Landholding Agency: Air Force

Property Number: 18199010864

Status: Excess

Comment: 538 sq. ft.; 1 floor; concrete/wood structure; potential utilities; most recent use—gymnasium facility

Nebraska

Bldg. 64

Offutt AFB

Silver Creek Co: Nance NE 68113-

Landholding Agency: Air Force

Property Number: 18199720040

Status: Unutilized

Comment: 4000 sq. ft., most recent use—admin., needs major rehab, possible asbestos/lead base paint

New Hampshire

Bldg. 127

New Boston Air Force Station

Amherst Co: Hillsborough NH 03031-1514

Landholding Agency: Air Force

Property Number: 18199320057

Status: Excess

Comment: 698 sq. ft.; 1-story, concrete and metal frame, possible asbestos, access restrictions, most recent use—storage

New Mexico

16 Bldgs., Type A

Kirtland AFB

Duplex Houses

Kirtland AFB Co: Bernalillo NM 87117-5000

Location: #2160-2162, 2157, 2155, 2148, 2139, 2137, 2130, 2129, 2117, 2113, 2109, 2107, 2102, 2100

Landholding Agency: Air Force

Property Number: 18199910013

Status: Unutilized

Comment: 2733 sq. ft.; presence of lead, most recent use—residential, off-site use only

12 Bldgs., Type B

Kirtland AFB

Duplex Houses

Kirtland AFB Co: Bernalillo NM 87117-5000

Location: #2158, 2149, 2147, 2136, 2132, 2125-2128, 2121, 2115, 2103

Landholding Agency: Air Force

Property Number: 18199910014

Status: Unutilized

Comment: 2735 sq. ft.; presence of lead, most recent use—residential, off-site use only

15 Bldgs., Type C

Kirtland AFB

Duplex Houses

Kirtland AFB Co: Bernalillo NM 87117-5000

Location: #2164, 2159, 2156, 2150, 2142, 2143, 2140, 2135, 2122-2124, 2120, 2110, 2108, 2104

Landholding Agency: Air Force

Property Number: 18199910015

Status: Unutilized

Comment: 2790 sq. ft.; presence of lead, most recent use—residential, off-site use only

6 Bldgs., Type D

Kirtland AFB

Duplex Houses

Kirtland AFB Co: Bernalillo NM 87117-5000

Location: #2165, 2163, 2144, 2131, 2106, 2105

Landholding Agency: Air Force

Property Number: 18199910016

Status: Unutilized

Comment: 2936 sq. ft.; presence of lead, most recent use—residential, off-site use only

9 Bldgs., Type E

Kirtland AFB

Single Units

Kirtland AFB Co: Bernalillo NM 87117-5000

Location: #2153, 2151, 2134, 2141, 2133, 2119, 2112, 2111, 2101

Landholding Agency: Air Force

Property Number: 18199910017

Status: Unutilized

Comment: 1482 sq. ft.; presence of lead, most recent use—residential, off-site use only

12 Bldgs.

Kirtland AFB

#862-867, 869, 870, 873-876

Kirtland AFB Co: Bernalillo NM 87117-5000

Landholding Agency: Air Force

Property Number: 18199940006

Status: Unutilized

Comment: 678 sq. ft.; presence of lead, most recent use—residential, off-site use only

Bldgs. 871, 872

Kirtland AFB

Kirtland AFB Co: Bernalillo NM 87117-5000

Landholding Agency: Air Force

Property Number: 18199940007

Status: Unutilized

Comment: 1363 sq. ft.; presence of lead, most recent use—residential, off-site use only

Wisconsin

Bldg. 2

VA Medical Center

5000 West National Ave.

Milwaukee WI 53295-

Landholding Agency: VA

Property Number: 97199830002

Status: Underutilized

Comment: 133,730 sq. ft., needs rehab, presence of asbestos/lead paint, most recent use—storage

Land (by State)

Georgia

Land—St. Simons Boathouse

St. Simons Island Co: Glynn GA 31522-0577

Landholding Agency: DOT

Property Number: 87199540003

Status: Unutilized

Comment: .08 acres, most recent use—pier and dockage for Coast Guard boats

Iowa

38 acres

VA Medical Center

1515 West Pleasant St.

Knoxville Co: Marion IA 50138-

Landholding Agency: VA

Property Number: 97199740001

Status: Unutilized

Comment: golf course

Michigan

VA Medical Center

5500 Armstrong Road

Battle Creek, Co: Calhoun MI 49016-

Landholding Agency: VA

Property Number: 97199010015

Status: Underutilized

Comment: 20 acres, used as exercise trails and storage areas, potential utilities

Nebraska

Land/Offutt Comm. Annex No. 4

Silver Creek Co: Nance NE 68663-

Landholding Agency: Air Force

Property Number: 18199720041

Status: Unutilized

Comment: 354 acres, most recent use—radio transmitter site, wetlands, isolated area

New York

VA Medical Center

Fort Hill Avenue

Canandaigua Co: Ontario NY 14424-

Landholding Agency: VA

Property Number: 97199010017

Status: Underutilized

Comment: 27.5 acres, used for school ballfield and parking, existing utilities easements, portion leased

Pennsylvania

VA Medical Center

New Castle Road

Butler Co: Butler PA 16001-

Landholding Agency: VA

Property Number: 97199010016

Status: Underutilized

Comment: Approx. 9.29 acres, used for patient recreation, potential utilities

Land No. 645

VA. Medical Center

Highland Drive

Pittsburgh Co: Allegheny PA 15206-

Location: Between Campania and Wiltsie Streets

Landholding Agency: VA

Property Number: 97199010080

Status: Unutilized

Comment: 90.3 acres, heavily wooded, property includes dump area and numerous site storm drain outfalls

Land—34.16 acres

VA Medical Center

1400 Black Horse Hill Road

Coatesville Co: Chester PA 19320-

Landholding Agency: VA

Property Number: 97199340001

Status: Underutilized

Comment: 34.16 acres, open field, most recent use—recreation/buffer

Tennessee

44 acres

VA Medical Center

3400 Lebanon Rd/

Murfreesboro Co: Rutherford TN 37129-

Landholding Agency: VA

Property Number: 97199740003

Status: Underutilized

Comment: intermittent use, partially landlocked, flooding

Suitable/To Be Excessed

Buildings (by State)

Massachusetts

Cuttyhunk Boathouse

South Shore of Cuttyhunk Pond

Gosnold Co: Dukes MA 02713-

Landholding Agency: DOT

Property Number: 87199310001

Status: Unutilized

Comment: 2700 sq. ft., wood frame, one story, needs rehad, limited utilities, off-site use only

Nauset Beach Light

Nauset Beach Co: Barnstable MA

Landholding Agency: DOT

Property Number: 87199420001

Status: Unutilized

Comment: 48 foot tower, cylindrical cast iron, most recent use—aid to navigation

Light Tower, Highland Light

Near Rt. 6, 9 miles sough of Race Point

North Truro Co: Barnstable MA 02652-

Landholding Agency: DOT

Property Number: 87199430005

Status: Excess

Comment: 66 ft. tower, 14′9′′ diameter, brick structure, scheduled to be vacated 9/94

Keepers Dwelling

Highland Light

Near Rt. 6, 9 miles south of Race Point

North Truro Co: Barnstable MA 02652-

Landholding Agency: DOT

Property Number: 87199430006

Status: Excess

Comment: 1160 sq. ft., 2-story wood frame, attached to light tower, scheduled to be vacated 9/94

Duplex Housing Unit

Highland Light

Near Rt. 6, 9 miles south of Race Point

North Truro Co: Barnstable MA 02652-

Landholding Agency: DOT

Property Number: 87199430007

Status: Excess

Comment: 2 living units, 930 sq. ft. each, 1-story each, located on eroding ocean bluff, scheduled to be vacated 9/94

Nahant Towers

Nahant Co: Essex MA

Landholding Agency: DOT

Property Number: 87199530001

Status: Unutilized

Comment: 196 sq. ft., 8-story observation tower

New York

Bldg. 1

Hancock Field

Syracuse Co: Onandaga NY 13211-

Landholding Agency: Air Force

Property Number: 18199530048

Status: Excess

Comment: 4955 sq. ft., 2 story concrete block, needs rehab, most recent use—administration

Bldg. 2

Hancock Field

Syracuse Co: Onandaga NY 13211-

Landholding Agency: Air Force

Property Number 18199530049

Status: Excess

Comment: 1476 sq. ft., 1 story concrete block, needs rehab, most recent use—repair shop

Bldg. 6

Hancock Field

Syracuse Co: Onandaga NY 13211-

Landholding Agency: Air Force

Property Number: 18199530050

Status: Excess

Comment: 2466 sq. ft., 1 story concrete block, needs rehab, most recent use—repair shop

Bldg. 11

Hancock Field

Syracuse Co: Onandaga NY 13211-

Landholding Agency: Air Force

Property Number: 18199530051

Status: Excess

Comment: 1750 sq. ft., 1 story wood frame, needs rehab, most recent use—storage

Bldg. 8

Hancock Field

Syracuse Co: Onandaga NY 13211-

Landholding Agency: Air Force

Property Number: 18199530052

Status: Excess

Comment: 1812 sq. ft., 1 story concrete block, needs rehab, most recent use—repair shop communications

Bldg. 14

Hancock Field

Syracuse Co: Onandaga NY 13211-

Landholding Agency: Air Force

Property Number: 18199530053

Status: Excess

Comment: 156 sq. ft., 1 story wood frame, most recent use—vehicle fuel station

Bldg. 30

Hancock Field

Syracuse Co: Onandaga NY 13211-

Landholding Agency: Air Force

Property Number: 18199530054

Status: Excess

Comment: 3649 sq. ft., 1 story, needs rehab, most recent use—assembly hall

Bldg. 31

Hancock Field

Syracuse Co: Onandaga NY 13211-

Landholding Agency: Air Force

Property Number: 18199530055

Status: Excess

Comment: 8252 sq. ft., 1 story concrete block, most recent use—storage

Bldg. 32

Hancock Field

Syracuse Co: Onandaga NY 13211-

Landholding Agency: Air Force

Property Number: 18199530056

Status: Excess

Comment: 1627 sq. ft., 1 story concrete block, most recent use—storage

South Carolina

5 Bldgs.

Charleston AFB Annex Housing

N. Charleston SC 29404-4827

Location: 101 Vector Ave., 112, 114, 116, 118 Intercept Ave.

Landholding Agency: Air Force

property Number: 18199830035

Status: Unutilized

Comment: 1433 sq. ft. + 345 sq. ft. carport, lead base paint/exterior most recent use—residential

1 Bldg.

Charleston AFB Annex Housing

N. Charleston SC 29404-4827

Location: 102 Vector Ave.

Landholding Agency: Air Force

property Number: 18199830036

Status: Unutilized

Comment: 1545 sq. ft. + 345 sq. ft. carport, lead base paint/exterior most recent use—residential

1 Bldg.

Charleston AFB Annex Housing

N. Charleston SC 29404-4827

Location: 101 Vector Ave.

Landholding Agency: Air Force

property Number: 18199830037

Status: Unutilized

Comment: 1445 sq. ft. + 346 sq. ft. carport, lead base paint/exterior most recent use—residential

18 Bldg.

Charleston AFB Annex Housing

N. Charleston SC 29404-4827

Location: 104-107 Vector Ave., 108-111, 113, 115, 117, 119 Intercept Ave., 120-122 Radar Ave.

Landholding Agency: Air Force

Property Number: 18199830038

Status: Unutilized

Comment: 1265 sq. ft. + 353 sq. ft. carport, lead base paint/exterior most recent use—residential

Land (by State)

Alaska

Gibson Cove Tract

Kodiak Co: AK 99619-

Landholding Agency: DOT

Property Number: 87199920001

Status: Unutilized

Comment: 37.55 acres, undeveloped land

New York

14.90 Acres

Hancock Field

Syracuse Co: Onandaga Ny 13211-

Property Number: 18199530057

Status: Excess

Comment: Fenced in compound, most recent use—Air Natl. Guard Communication & Electronics Group

Unsuitable Properties

Buildings (by State)

Alabama

Dwelling A

USCG Mobile Pt. Station

Ft. Morgan

Gulfshores Co: Baldwin AL 36542-

Landholding Agency: DOT

Property Number: 87199120001

Status: Excess

Reason: Floodway

Dwelling B

USCG Mobile Pt. Station

Ft. Morgan

Gulfshores Co: Baldwin AL 36542-

Landholding Agency: DOT

Property Number: 87199120002

Status: Excess

Reason: Floodway

Oil House

USCG Mobile Pt. Station

Ft. Morgan

Gulfshores Co: Baldwin AL 36542-

Landholding Agency: DOT

Property Number: 87199120003

Status: Excess

Reason: Floodway

Garage

USCG Mobile Pt. Station

Ft. Morgan

Gulfshores Co: Baldwin AL 36542-

Landholding Agency: DOT

Property Number: 87199120004

Status: Excess

Reason: Floodway

Shop Building

USCG Mobile Pt. Station

Ft. Morgan

Gulfshores Co: Baldwin AL 36542-

Landholding Agency: DOT

Property Number: 87199120005

Status: Excess

Reason: Floodway

Bldg. 7

VA Medical Center

Tuskegee Co: Macon AL 36083-

Landholding Agency: VA

Property Number: 97199730001

Status: Underutilized

Reason: Secured Area

Bldg. 8

VA Medical Center

Tuskegee Co: Macon AL 36083-

Landholding Agency: VA

Property Number: 97199730002

Status: Underutilized

Reason: Secured Area

Alaska

Bldg. 203

Tin City Air Force Station

21 CSG/DEER

Elmendorf AFB Co: Anchorage AK 99506-5000

Landholding Agency: Air Force

Property Number: 18199010296

Status: Unutilized

Reasons: Isolated area, Not accessible by road, Contamination, Secured Area

Bldg. 165

Sparrevohn Air Force Station

21 CSG/DEER

Elmendorf AFB Co: Anchorage AK 99506-5000

Landholding Agency: Air Force

Property Number: 18199010298

Status: Unutilized

Reasons: Isolated area, Not accessible by road, Contamination, Secured Area

Bldg. 150

Sparrevohn Air Force Station

21 CSG/DEER

Elmendorf AFB Co: Anchorage AK 99506-5000

Landholding Agency: Air Force

Property Number: 18199010299

Status: Unutilized

Reasons: Isolated area, Not accessible by road, Contamination, Secured Area

Bldg. 130

Sparrevohn Air Force Station

21 CSG/DEER

Elmendorf AFB Co: Anchorage AK 99506-5000

Landholding Agency: Air Force

Property Number: 18199010300

Status: Unutilized

Reasons: Isolated area, Not accessible by road, Contamination, Secured Area

Bldg. 306

King Salmon Airport

21 CSG/DEER

Elmendorf AFB Co: Anchorage AK 99506-5000

Landholding Agency: Air Force

Property Number: 18199010301

Status: Unutilized

Reasons: Isolated area, Not accessible by road, Contamination, Secured Area

Bldg. 11-230

Elmendorf Air Force Base

21 CSG/DEER

Elmendorf AFB Co: Anchorage AK 99506-5000

Landholding Agency: Air Force

Property Number: 18199010303

Status: Unutilized

Reasons: Contamination, Secured Area

Bldg. 63-320

Elmendorf Air Force Base

21 CSG/DEER

Elmendorf AFB Co: Anchorage AK 99506-5000

Landholding Agency: Air Force

Property Number: 18199010307

Status: Unutilized

Reasons: Contamination, Secured Area

Bldg. 103

Ft. Yukon Air Force Station

21 CSG/DEER

Elmendorf AFB Co: Anchorage AK 99506-5000

Landholding Agency: Air Force

Property Number: 18199010309

Status: Unutilized

Reasons: Isolated area, Not accessible by road, Contamination, Secured Area

Bldg. 110

Ft. Yukon Air Force Station

21 CSG/DEER

Elmendorf AFB Co: Anchorage AK 99506-5000

Landholding Agency: Air Force

Property Number: 18199010310

Status: Unutilized

Reasons: Isolated area, Not accessible by road, Contamination, Secured Area

Bldg. 112

Ft. Yukon Air Force Station

21 CSG/DEER

Elmendorf AFB Co: Anchorage AK 99506-5000

Landholding Agency: Air Force

Property Number: 18199010311

Status: Unutilized

Reasons: Isolated area, Not accessible by road, Contamination, Secured Area

Bldg. 113

Ft. Yukon Air Force Station

21 CSG/DEER

Elmendorf AFB Co: Anchorage AK 99506-5000

Landholding Agency: Air Force

Property Number: 18199010312

Status: Unutilized

Reasons: Isolated area, Not accessible by road, Contamination, Secured Area

Bldg. 114

Ft. Yukon Air Force Station

21 CSG/DEER

Elmendorf AFB Co: Anchorage AK 99506-5000

Landholding Agency: Air Force

Property Number: 18199010313

Status: Unutilized

Reasons: Isolated area, Not accessible by road, Contamination, Secured Area

Bldg. 115

Ft. Yukon Air Force Station

21 CSG/DEER

Elmendorf AFB Co: Anchorage AK 99506-5000

Landholding Agency: Air Force

Property Number: 18199010314

Status: Unutilized

Reasons: Isolated area, Not accessible by road, Contamination, Secured Area

Bldg. 118

Ft. Yukon Air Force Station

21 CSG/DEER

Elmendorf AFB Co: Anchorage AK 99506-5000

Landholding Agency: Air Force

Property Number: 18199010315

Status: Unutilized

Reasons: Isolated area, Not accessible by road, Contamination, Secured Area

Bldg. 1018

Ft. Yukon Air Force Station

21 CSG/DEER

Elmendorf AFB Co: Anchorage AK 99506-5000

Landholding Agency: Air Force

Property Number: 18199010317

Status: Unutilized

Reasons: Isolated area, Not accessible by road, Contamination, Secured Area

Bldg. 1025

Ft. Yukon Air Force Station

21 CSG/DEER

Elmendorf AFB Co: Anchorage AK 99506-5000

Landholding Agency: Air Force

Property Number: 18199010318

Status: Unutilized

Reasons: Isolated area, Not accessible by road, Contamination, Secured Area

Bldg. 1055

Ft. Yukon Air Force Station

21 CSG/DEER

Elmendorf AFB Co: Anchorage AK 99506-5000

Landholding Agency: Air Force

Property Number: 18199010319

Status: Unutilized

Reasons: Isolated area, Not accessible by road, Contamination, Secured Area

Bldg. 107

Cape Lisburne Air Force Station

21 CSG/DEER

Elmendorf AFB Co: Anchorage AK 99506-5000

Landholding Agency: Air Force

Property Number: 18199010320

Status: Unutilized

Reasons: Isolated area, Not accessible by road, Contamination, Secured Area

Bldg. 115

Cape Lisburne Air Force Station

21 CSG/DEER

Elmendorf AFB Co: Anchorage AK 99506-5000

Landholding Agency: Air Force

Property Number: 18199010321

Status: Unutilized

Reasons: Isolated area, Not accessible by road, Contamination, Secured Area

Bldg. 113

Cape Lisburne Air Force Station

21 CSG/DEER

Elmendorf AFB Co: Anchorage AK 99506-5000

Landholding Agency: Air Force

Property Number: 18199010322

Status: Unutilized

Reasons: Isolated area, Not accessible by road, Contamination, Secured Area

Bldg. 150

Cape Lisburne Air Force Station

21 CSG/DEER

Elmendorf AFB Co: Anchorage AK 88506-5000

Landholding Agency: Air Force

Property Number: 18199010323

Status: Unutilized

Reasons: Isolated area, Not accessible by road, Contamination, Secured Area

Bldg. 152

Cape Lisburne Air Force Station tation

21 CSG/DEER

Elmendorf AFB Co: Anchorage AK 99506-5000

Landholding Agency: Air Force

Property Number: 18199010324

Status: Unutilized*

Reasons: Isolated area, Not accessible by road, Contamination, Secured Area

Bldg. 301

Cape Lisburne Air Force Station

21 CSG/DEER

Elmendorf AFB Co: Anchorage AK 99506-5000

Landholding Agency: Air Force

Property Number: 18199010325

Status: Unutilized

Reasons: Isolated area, Not accessible by road, Contamination, Secured Area

Bldg. 1001

Cape Lisburne Air Force Station

21 CSG/DEER

Elmendorf AFB Co: Anchorage AK 99506-5000

Landholding Agency: Air Force

Property Number: 18199010326

Status: Unutilized

Reasons: Isolated area, Not accessible by road, Contamination, Secured Area

Bldg. 1003

Cape Lisburne Air Force Station

21 CSG/DEER

Elmendorf AFB Co: Anchorage AK 99506-5000

Landholding Agency: Air Force

Property Number: 18199010327

Status: Unutilized

Reasons: Isolated area, Not accessible by road, Contamination, Secured Area

Bldg. 1055

Cape Lisburne Air Force Station

21 CSG/DEER

Elmendorf AFB Co: Anchorage AK 99506-5000

Landholding Agency: Air Force

Property Number: 18199010328

Status: Unutilized

Reasons: Isolated area, Not accessible by road, Contamination, Secured Area

Bldg. 1056

Cape Lisburne Air Force Station

21 CSG/DEER

Elmendorf AFB Co: Anchorage AK 99506-5000

Landholding Agency: Air Force

Property Number: 18199010329

Status: Unutilized

Reasons: Isolated area, Not accessible by road, Contamination, Secured Area

Bldg. 103

Kotzebue Air Force Station

21 CSG/DEER

Elmendorf AFB Co: Anchorage AK 99506-5000

Landholding Agency: Air Force

Property Number: 18199010330

Status: Unutilized

Reasons: Isolated area, Not accessible by road, Contamination, Secured Area

Bldg. 104

Kotzebue Air Force Station

21 CSG/DEER

Elmendorf AFB Co: Anchorage AK 99506-5000

Landholding Agency: Air Force

Property Number: 18199010331

Status: Unutilized

Reasons: Isolated area, Not accessible by road, Contamination, Secured Area

Bldg. 105

Kotzebue Air Force Station

21 CSG/DEER

Elmendorf AFB Co: Anchorage AK 99506-5000

Landholding Agency: Air Force

Property Number: 18199010332

Status: Unutilized

Reasons: Isolated area, Not accessible by road, Contamination, Secured Area

Bldg. 110

Kotzebue Air Force Station

21 CSG/DEER

Elmendorf AFB Co: Anchorage AK 99506-5000

Landholding Agency: Air Force

Property Number: 18199010333

Status: Unutilized

Reasons: Isolated area, Not accessible by road, Contamination, Secured Area

Bldg. 114

Kotzebue Air Force Station

21 CSG/DEER

Elmendorf AFB Co: Anchorage AK 99506-5000

Landholding Agency: Air Force

Property Number: 18199010334

Status: Unutilized

Reasons: Isolated area, Not accessible by road, Contamination, Secured Area

Bldg. 202

Kotzebue Air Force Station

21 CSG/DEER

Elmendorf Co: Anchorage AK 99506-5000

Landholding Agency: Air Force

Property Number: 18199010335

Status: Unutilized

Reasons: Isolated area, Not accessible by road, Contamination, Secured Area

Bldg. 204

Kotzebue Air Force Station

21 CSG/DEER

Elmendorf AFB Co: Anchorage AK 99506-5000

Landholding Agency: Air Force

Property Number: 18199010336

Status: Unutilized

Reasons: Isolated area, Not accessible by road, Contamination, Secured Area

Bldg. 205

Kotzebue Air Force Station

21 CSG/DEER

Elmendorf AFB Co: Anchorage AK 99506-5000

Landholding Agency: Air Force

Property Number: 18199010337

Status: Unutilized

Reasons: Isolated area, Not accessible by road, Contamination, Secured Area

Bldg. 1001

Kotzebue Air Force Station

21 CSG/DEER

Elmendorf AFB Co: Anchorage AK 99506-5000

Landholding Agency: Air Force

Property Number: 18199010338

Status: Unutilized

Reasons: Isolated area, Not accessible by road, Contamination, Secured Area

Bldg. 1015

Kotzebue Air Force Station

21 CSG/DEER

Elmendorf AFB Co: Anchorage AK 99506-5000

Landholding Agency: Air Force

Property Number: 18199010339

Status: Unutilized

Reasons: Isolated area, Not accessible by road, Contamination, Secured Area

Bldg. 50

Cold Bay Air Force Station

21 CSG/DEER

Elmendorf AFB Co: Anchorage AK 99506-5000

Landholding Agency: Air Force

Property Number: 18199010433

Status: Unutilized

Reasons: Isolated area, Not accessible by road, Isolated and remote; Arctic environment.

Bldg. 1548, Galena Airport

Elmendorf AFB AK 99506-4420

Landholding Agency: Air Force

Property Number: 18199420001

Status: Unutilized

Reasons: Floodway, Secured Area, Extensive deterioration

Bldg. 1568, Galena Airport

Elmendorf AFB AK 99506-4420

Landholding Agency: Air Force

Property Number: 18199420002

Status: Unutilized

Reasons: Floodway, Secured Area, Extensive deterioration

Bldg. 1570, Galena Airport

Elmendorf AFB AK 99506-4420

Landholding Agency: Air Force

Property Number: 18199420003

Status: Unutilized

Reasons: Floodway, Secured Area, Extensive deterioration

Bldg. 1700, Galena Airport

Elmendorf AFB AK 99506-4420

Landholding Agency: Air Force

Property Number: 18199420004

Status: Unutilized

Reasons: Floodway, Secured Area, Extensive deterioration

Bldg. 1832, Galena Airport

Elmendorf AFB AK 99506-4420

Landholding Agency: Air Force

Property Number: 18199420005

Status: Unutilized

Reasons: Floodway, Secured Area, Extensive deterioration

Bldg. 1842, Galena Airport

Elmendorf AFB AK 99506-4420

Landholding Agency: Air Force

Property Number: 18199420006

Status: Unutilized

Reasons: Floodway, Secured Area, Extensive deterioration

Bldg. 1844, Galena Airport

Elmendorf AFB AK 99506-4420

Landholding Agency: Air Force

Property Number: 18199420007

Status: Unutilized

Reasons: Floodway, Secured Area, Extensive deterioration

Bldg. 1853, Galena Airport

Elmendorf AFB AK 99506-4420

Landholding Agency: Air Force

Property Number: 18199440011

Status: Unutilized

Reasons: Floodway, Secured Area

Bldg. 142

Tin City Long Range

Radar Site

Wales Co: Nome AK

Landholding Agency: Air Force

Property Number: 18199520013

Status: Unutilized

Reasons: Secured Area, Extensive deterioration

Bldg. 110

Tin City Long Range Radar Site

Wales Co: Nome AK

Landholding Agency: Air Force

Property Number: 18199520014

Status: Unutilized

Reasons: Secured Area, Extensive deterioration

Bldg. 646

King Salmon Airport

Naknek Co: Bristol Bay AK

Landholding Agency: Air Force

Property Number: 18199520015

Status: Unutilized

Reasons: Secured Area, Extensive deterioration

Bldg. 2541

Galena Airport

Galena Co: Yukon AK

Landholding Agency: Air Force

Property Number: 18199520016

Status: Unutilized

Reasons: Secured Area, Extensive deterioration

Bldg. 1770

Galena Airport

Galena Co: Yukon AK

Landholding Agency: Air Force

Property Number: 18199520017

Status: Unutilized

Reasons: Secured Area, Extensive deterioration

Bldg. 1

Lonely Dewline Site

Fairbanks Co: Fairbanks NS AK

Landholding Agency: Air Force

Property Number: 18199520024

Status: Unutilized

Reasons: Extensive deterioration

Bldg. 2

Lonely Dewline Site

Fairbanks Co: Fairbanks NS AK

Landholding Agency: Air Force

Property Number: 18199520025

Status: Unutilized

Reasons: Not accessible by road, Extensive deterioration

Bldg. 12

Lonely Dewline Site

Fairbanks Co: Fairbanks NS AK

Landholding Agency: Air Force

Property Number: 18199520026

Status: Unutilized

Reasons: Not accessible by road, Extensive deterioration

Bldg. 1

Wainwright Dewline Site

Fairbanks Co: Fairbanks NS AK

Landholding Agency: Air Force

Property Number: 18199520027

Status: Unutilized

Reasons: Not accessible by road, Extensive deterioration

Bldg. 2

Wainwright Dewline Site

Fairbanks Co: Fairbanks NS AK

Landholding Agency: Air Force

Property Number: 18199520028

Status: Unutilized

Reasons: Not accessible by road, Extensive deterioration

Bldg. 3

Wainwright Dewline Site

Fairbanks Co: Fairbanks NS AK

Landholding Agency: Air Force

Property Number: 18199520029

Status: Unutilized

Reasons: Not accessible by road, Extensive deterioration

Bldg. 3045

Tatalina Long Range Radar

Site

Elmendorf AFB AK 99506-4420

Landholding Agency: Air Force

Property Number: 18199530002

Status: Unutilized

Reasons: Secured Area, Extensive deterioration

Bldg. 18

Lonely Dewline Site

Elmendorf AFB AK 99506-4420

Landholding Agency: Air Force

Property Number: 18199530003

Status: Unutilized

Reasons: Secured Area, Extensive deterioration

Bldg. 23

Lonely Dewline Site

Elmendorf AFB AK 99506-4420

Landholding Agency: Air Force

Property Number: 18199530004

Status: Unutilized

Reasons: Secured Area, Extensive deterioration

Bldg. 1015

Kotzebue Long Range Radar Site

Elmendorf AFB AK 99506-4420

Landholding Agency: Air Force

Property Number: 18199530005

Status: Unutilized

Reasons: Secured Area, Extensive deterioration

Bldg. 1

Flaxman Island DEW Site

Elmendorf AFB AK 99506-4420

Landholding Agency: Air Force

Property Number: 18199530006

Status: Unutilized

Reasons: Secured Area, Extensive deterioration

Bldg. 3

Flaxman Island DEW Site

Elmendorf AFB AK 99506-4420

Landholding Agency: Air Force

Property Number: 18199530008

Status: Unutilized

Reasons: Secured Area, Extensive deterioration

Bldg. 4100

Cape Romanzof Long Range Radar Site

Elmendorf AFB AK 99506-4420

Landholding Agency: Air Force

Property Number: 18199530009

Status: Unutilized

Reasons: Secured Area, Extensive deterioration

Bldg. 200

Cape Newenham Long Range Radar Site

Elmendorf AFB AK 99506-4420

Landholding Agency: Air Force

Property Number: 18199530010

Status: Unutilized

Reasons: Secured Area, Extensive deterioration

Bldg. 2166

Cape Newenham Long Range Radar Site

Elmendorf AFB AK 99506-4420

Landholding Agency: Air Force

Property Number: 18199530011

Status: Unutilized

Reason: Extensive deterioration

Bldg. 5500

Cape Newenham Long Range Radar Site

Elmendorf AFB AK 99506-4420

Landholding Agency: Air Force

Property Number: 18199530012

Status: Unutilized

Reasons: Secured Area, Extensive deterioration

Bldg. 8

Barter Island

Elmendorf AFB AK 99506-4420

Landholding Agency: Air Force

Property Number: 18199530013

Status: Unutilized

Reasons: Secured Area, Extensive deterioration

Bldg. 75

Barter Island

Elmendorf AFB AK 99506-4420

Landholding Agency: Air Force

Property Number: 18199530014

Status: Unutilized

Reasons: Secured Area, Extensive deterioration

Bldg. 86

Barter Island

Elmendorf AFB AK 99506-4420

Landholding Agency: Air Force

Property Number: 18199530015

Status: Unutilized

Reasons: Secured Area, Extensive deterioration

Bldg. 3060

Barter Island

Elmendorf AFB AK 99506-4420

Landholding Agency: Air Force

Property Number: 18199530016

Status: Unutilized

Reasons: Secured Area, Extensive deterioration

Bldg. 11-330

Elmendorf Air Force Base

Anchorage AK 99506-3240

Landholding Agency: Air Force

Property Number: 18199530017

Status: Unutilized

Reasons: Within airport runway clear zone, Secured Area, Extensive deterioration

Bldg. 31-342

Elmendorf Air Force Base

Anchorage AK 99506-3240

Landholding Agency: Air Force

Property Number: 18199530022

Status: Unutilized

Reasons: Secured Area, Extensive deterioration

Bldg. 32-126

Elmendorf Air Force Base

Anchorage AK 99506-3240

Landholding Agency: Air Force

Property Number: 18199530023

Status: Unutilized

Reasons: Within airport runway clear zone, Secured Area, Extensive deterioration

Bldg. 21-737

Elmendorf Air Force Base

Anchorage AK 99506-5000

Landholding Agency: Air Force

Property Number: 18199540001

Status: Unutilized

Reasons: Secured Area, Extensive deterioration

Bldg. 52-651

Elmendorf AFB

Anchorage AK 99506-3240

Landholding Agency: Air Force

Property Number: 18199740004

Status: Unutilized

Reasons: Secured Area, Extensive deterioration

Bldg. 132

Tin City Long Range Radar Site

Elmendorf AFB AK 99506-2270

Landholding Agency: Air Force

Property Number: 18199810003

Status: Unutilized

Reasons: Secured Area, Extensive deterioration

Bldgs. 1001, 211

Murphy Dome AF Station

Elmendorf AFB AK 99506-2270

Landholding Agency: Air Force

Property Number: 18199810004

Status: Unutilized

Reasons: Secured Area, Extensive deterioration

Bldg. 1551

Galena Airport

Elmendorf AFB AK 99506-2270

Landholding Agency: Air Force

Property Number: 18199810030

Status: Unutilized

Reasons: Within airport runway clear zone

Bldg. 1771

Galena Airport

Elmendorf AFB AK 99506-2270

Landholding Agency: Air Force

Property Number: 18199820001

Status: Unutilized

Reasons: Secured Area, Extensive deterioration

Bldg. 34-570

Elmendorf AFB

Anchorage AK 99506-3240

Landholding Agency: Air Force

Property Number: 18199830008

Status: Unutilized

Reasons: Within 2000 ft. of flammable or explosive material, Secured Area

Bldg. 3

Oliktok Long Range Radar Site

Elmendorf AFB AK 99506-2270

Landholding Agency: Air Force

Property Number: 18199840010

Status: Unutilized

Reasons: Secured Area, Extensive deterioration

Bldg. 8

Oliktok Long Range Radar Site

Elmendorf AFB AK 99506-2270

Landholding Agency: Air Force

Property Number: 18199840011

Status: Unutilized

Reasons: Secured Area, Extensive deterioration

Bldg. 19

Lonely Short Range Radar Site

Elmendorf AFB AK 99506-2270

Landholding Agency: Air Force

Property Number: 18199840012

Status: Unutilized

Reasons: Secured Area, Extensive deterioration

Bldg. 20

Lonely Short Range Radar Site

Elmendorf AFB AK 99506-2270

Landholding Agency: Air Force

Property Number: 18199840013

Status: Unutilized

Reasons: Secured Area, Extensive deterioration

Bldg. 338

King Salmon Airport

Naknek Co: Bristol Bay AK

Landholding Agency: Air Force

Property Number: 18199840014

Status: Unutilized

Reasons: Secured Area, Extensive deterioration

Bldg. 560

King Salmon Airport

Naknek Co: Bristol Bay AK

Landholding Agency: Air Force

Property Number: 18199840015

Status: Unutilized

Reasons: Secured Area, Extensive deterioration

Bldg. 612

King Salmon Airport

Naknek Co: Bristol Bay AK

Landholding Agency: Air Force

Property Number: 18199840016

Status: Unutilized

Reasons: Secured Area, Extensive deterioration

Bldg. 618

King Salmon Airport

Naknek Co: Bristol Bay AK

Landholding Agency: Air Force

Property Number: 18199840017

Status: Unutilized

Reasons: Secured Area, Extensive deterioration

Bldg. 643

King Salmon Airport

Naknek Co: Bristol Bay AK

Landholding Agency: Air Force

Property Number: 18199840018

Status: Unutilized

Reasons: Secured Area, Extensive deterioration

Bldg. 649

King Salmon Airport

Naknek Co: Bristol Bay AK

Landholding Agency: Air Force

Property Number: 18199840019

Status: Unutilized

Reasons: Secured Area, Extensive deterioration

Bldg. 114

Indian Mountain Long Range Radar Site

Elmendorf AFB AK 99506-2270

Landholding Agency: Air Force

Property Number: 18199840020

Status: Unutilized

Reasons: Secured Area, Extensive deterioration

Bldg. 34-636

Elmendorf AFB

Anchorage AK 99506-3240

Landholding Agency: Air Force

Property Number: 18199840021

Status: Unutilized

Reasons: Within 2000 ft. of flammable or explosive material, Within airport runway clear zone, Secured Area, Extensive deterioration

Bldg. 34-638

Elmendorf AFB

Anchorage AK 99506-3240

Landholding Agency: Air Force

Property Number: 18199840022

Status: Unutilized

Reasons: Within 2000 ft. of flammable or explosive material, Within airport runway clear zone, Secured Area, Extensive deterioration

Bldg. 140

Cape Lisburne Long Range Radar Site

Elmendorf AFB AK 99506-3240

Landholding Agency: Air Force

Property Number: 18199840023

Status: Unutilized

Reasons: Secured Area, Extensive deterioration

Bldg. 145

Cape Lisburne Long Range Radar Site

Elmendorf AFB AK 99506-3240

Landholding Agency: Air Force

Property Number: 18199840024

Status: Unutilized

Reasons: Secured Area, Extensive deterioration

Bldg. 310

Cape Lisburne Long Range Radar Site

Elmendorf AFB AK 99506-3240

Landholding Agency: Air Force

Property Number: 18199840025

Status: Unutilized

Reasons: Secured Area, Extensive deterioration

Bldg. 27

Eareckson Air Station

Shemya Island AK

Landholding Agency: Air Force

Property Number: 18199840026

Status: Unutilized

Reasons: Secured Area, Extensive deterioration

Bldg. 30

Eareckson Air Station

Shemya Island AK

Landholding Agency: Air Force

Property Number: 18199840027

Status: Unutilized

Reasons: Secured Area, Extensive deterioration

Bldg. 42

Eareckson Air Station

Shemya Island AK

Landholding Agency: Air Force

Property Number: 18199840028

Status: Unutilized

Reasons: Secured Area, Extensive deterioration

Bldg. 212

Eareckson Air Station

Shemya Island AK

Landholding Agency: Air Force

Property Number: 18199840029

Status: Unutilized

Reasons: Secured Area, Extensive deterioration

Bldg. 213

Eareckson Air Station

Shemya Island AK

Landholding Agency: Air Force

Property Number: 18199840030

Status: Unutilized

Reasons: Secured Area, Extensive deterioration

Bldg. 223

Eareckson Air Station

Shemya Island AK

Landholding Agency: Air Force

Property Number: 18199840031

Status: Unutilized

Reasons: Secured Area, Extensive deterioration

Bldg. 452

Eareckson Air Station

Shemya Island AK

Landholding Agency: Air Force

Property Number: 18199840032

Status: Unutilized

Reasons: Secured Area, Extensive deterioration

Bldg. 502

Eareckson Air Station

Shemya Island AK

Landholding Agency: Air Force

Property Number: 18199840033

Status: Unutilized

Reasons: Secured Area, Extensive deterioration

Bldg. 503

Eareckson Air Station

Shemya Island AK

Landholding Agency: Air Force

Property Number: 18199840034

Status: Unutilized

Reasons: Secured Area, Extensive deterioration

Bldg. 522

Eareckson Air Station

Shemya Island AK

Landholding Agency: Air Force

Property Number: 18199840035

Status: Unutilized

Reasons: Secured Area, Extensive deterioration

Bldg. 587

Eareckson Air Station

Shemya Island AK

Landholding Agency: Air Force

Property Number: 18199840036

Status: Unutilized

Reasons: Secured Area, Extensive deterioration

Bldg. 588

Eareckson Air Station

Shemya Island AK

Landholding Agency: Air Force

Property Number: 18199840037

Status: Unutilized

Reasons: Secured Area, Extensive deterioration

Bldg. 598

Eareckson Air Station

Shemya Island AK

Landholding Agency: Air Force

Property Number: 18199840038

Status: Unutilized

Reasons: Secured Area, Extensive deterioration

Bldg. 605

Eareckson Air Station

Shemya Island AK

Landholding Agency: Air Force

Property Number: 18199840039

Status: Unutilized

Reasons: Secured Area, Extensive deterioration

Bldg. 613

Eareckson Air Station

Shemya Island AK

Landholding Agency: Air Force

Property Number: 18199840040

Status: Unutilized

Reasons: Secured Area, Extensive deterioration

Bldg. 614

Eareckson Air Station

Shemya Island AK

Landholding Agency: Air Force

Property Number: 18199840041

Status: Unutilized

Reasons: Secured Area, Extensive deterioration

Bldg. 615

Eareckson Air Station

Shemya Island AK

Landholding Agency: Air Force

Property Number: 18199840042

Status: Unutilized

Reasons: Secured Area, Extensive deterioration

Bldg. 616

Eareckson Air Station

Shemya Island AK

Landholding Agency: Air Force

Property Number: 18199840043

Status: Unutilized

Reasons: Secured Area, Extensive deterioration

Bldg. 617

Eareckson Air Station

Shemya Island AK

Landholding Agency: Air Force

Property Number: 18199840044

Status: Unutilized

Reasons: Secured Area, Extensive deterioration

Bldg. 624

Eareckson Air Station

Shemya Island AK

Landholding Agency: Air Force

Property Number: 18199840045

Status: Unutilized

Reasons: Secured Area, Extensive deterioration

Bldg. 700

Eareckson Air Station

Shemya Island AK

Landholding Agency: Air Force

Property Number: 18199840046

Status: Unutilized

Reasons: Secured Area, Extensive deterioration

Bldg. 718

Eareckson Air Station

Shemya Island AK

Landholding Agency: Air Force

Property Number: 18199840047

Status: Unutilized

Reasons: Secured Area, Extensive deterioration

Bldg. 727

Eareckson Air Station

Shemya Island AK

Landholding Agency: Air Force

Property Number: 18199840048

Status: Unutilized

Reasons: Secured Area, Extensive deterioration

Bldg. 731

Eareckson Air Station

Shemya Island AK

Landholding Agency: Air Force

Property Number: 18199840049

Status: Unutilized

Reasons: Secured Area, Extensive deterioration

Bldg. 751

Eareckson Air Station

Shemya Island AK

Landholding Agency: Air Force

Property Number: 18199840050

Status: Unutilized

Reasons: Secured Area, Extensive deterioration

Bldg. 753

Eareckson Air Station

Shemya Island AK

Landholding Agency: Air Force

Property Number: 18199840051

Status: Unutilized

Reasons: Secured Area, Extensive deterioration

Bldg. 1001

Eareckson Air Station

Shemya Island AK

Landholding Agency: Air Force

Property Number: 18199840052

Status: Unutilized

Reasons: Secured Area, Extensive deterioration

Bldg. 1005

Eareckson Air Station

Shemya Island AK

Landholding Agency: Air Force

Property Number: 18199840053

Status: Unutilized

Reasons: Secured Area, Extensive deterioration

Bldg. 1010

Eareckson Air Station

Shemya Island AK

Landholding Agency: Air Force

Property Number: 18199840054

Status: Unutilized

Reasons: Secured Area, Extensive deterioration

Bldg. 1025

Eareckson Air Station

Shemya Island AK

Landholding Agency: Air Force

Property Number: 18199840055

Status: Unutilized

Reasons: Secured Area, Extensive deterioration

Bldg. 1030

Eareckson Air Station

Shemya Island AK

Landholding Agency: Air Force

Property Number: 18199840056

Status: Unutilized

Reasons: Secured Area, Extensive deterioration

Bldg. 3016

Eareckson Air Station

Shemya Island AK

Landholding Agency: Air Force

Property Number: 18199840057

Status: Unutilized

Reasons: Secured Area, Extensive deterioration

Bldg. 3062

Eareckson Air Station

Shemya Island AK

Landholding Agency: Air Force

Property Number: 18199840058

Status: Unutilized

Reasons: Secured Area, Extensive deterioration

Bldg. 3063

Eareckson Air Station

Shemya Island AK

Landholding Agency: Air Force

Property Number: 18199840059

Status: Unutilized

Reasons: Secured Area, Extensive deterioration

Bldg. 32-189

Elmendorf Air Force Base

Anchorage Co: AK 99506-3230

Landholding Agency: Air Force

Property Number: 18199920001

Status: Unutilized

Reasons: Within 2000 ft. of flammable or explosive material, Secured Area, Extensive deterioration

Bldg. 4893

Elmendorf AFB

Elmendorf AFB Co: AK 99506-

Landholding Agency: Air Force

Property Number: 18199930001

Status: Unutilized

Reason: Within airport runway clear zone

Bldg. 4905

Elmendorf AFB

Elmendorf AFB Co: AK 99506-

Landholding Agency: Air Force

Property Number: 18199930002

Status: Unutilized

Reasons: Within airport runway clear zone, Secured Area

Bldg. 4913

Elmendorf AFB

Elmendorf AFB Co: AK 99506-

Landholding Agency: Air Force

Property Number: 18199930003

Status: Unutilized

Reasons: Within airport runway clear zone, Secured Area

Bldg. 5887

Elmendorf AFB

Elmendorf AFB Co: AK 99506-

Landholding Agency: Air Force

Property Number: 18199930004

Status: Unutilized

Reasons: Within 2000 ft. of flammable or explosive material, Within airport runway clear zone, Secured Area

Bldg. 10449

Elmendorf AFB

Elmendorf AFB Co: AK 99506-

Landholding Agency: Air Force

Property Number: 18199930005

Status: Unutilized

Reason: Secured Area

Bldg. 12759

Elmendorf AFB

Elmendorf AFB Co: AK 99506-

Landholding Agency: Air Force

Property Number: 18199930006

Status: Unutilized

Reasons: Within 2000 ft. of flammable or explosive material, Secured Area, Extensive deterioration

Bldg. 7227

Elmendorf AFB

Elmendorf AFB Co: AK 99506-

Landholding Agency: Air Force

Property Number: 18200010001

Status: Unutilized

Reason: Extensive deterioration

Bldg. 28

USCG Support Center

Kodiak Co: Kodial Island AK 99619-5000

Landholding Agency: DOT

Property Number: 87199210126

Status: Excess

Reasons: Within airport runway clear zone, Secured Area

Bldg. 19

USCG Support Center

Kodiak Co: Kodiak Island AK 99619-5000

Landholding Agency: DOT

Property Number: 87199210128

Status: Excess

Reasons: Within airport runway clear zone, Extensive deterioration, Secured Area.

Bldg. 18

USCG Support Center

Kodiak Co: Kodiak Island AK 99619-5000

Landholding Agency: DOT

Property Number: 87199210132

Status: Excess

Reasons: Within airport runway clear zone, Secured Area.

GSA Number: U-ALAS-655a

Bldg. A512

USCG Support Center

Kodiak Co: Kodiak Island AK 99619-5000

Landholding Agency: DOT

Property Number: 87199210133

Status: Excess

Reasons: Within 2000 ft. of flammable or explosive material, Within airport runway clear zone, Secured Area.

Bldg. R1, Holiday Beach

U.S. Coast Guard Support Center

Kodiak Co: Kodiak Island AK 99619-5014

Landholding Agency: DOT

Property Number: 87199310014

Status: Unutilized

Reason: Secured Area

Bldg. S-3

U.S. Coast Guard Support Center

Kodiak Co: Kodiak Island AK 99619-5014

Landholding Agency: DOT

Property Number: 87199310015

Status: Unutilized

Reason: Secured Area

Bldg. S-16

U.S. Coast Guard Support Center

Kodiak Co: Kodiak Island AK 99619-5014

Landholding Agency: DOT

Property Number: 87199310016

Status: Unutilized

Reason: Secured Area

Bldg. 624

U.S. Coast Guard Support Center

Kodiak Co: Kodiak Island AK 99619-5014

Landholding Agency: DOT

Property Number: 87199310021

Status: Unutilized

Reason: Within airport runway clear zone, Secured Area

Bldg. 456

Coast Guard—ISC Kodiak

Kodiak Co: Kodiak Borough AK 99615-

Landholding Agency: DOT

Property Number: 87199710002

Status: Excess

Reason: Within airport runway clear zone, Secured Area, Extensive deterioration

Bldg. 524A

USCG ISC Kodiak

Kodiak Co: Kodiak Is. Bor. AK 99619-

Landholding Agency: DOT

Property Number: 87199710004

Status: Excess

Reason: Floodway, Secured Area

Bldg. R13, USCG ISC Kodiak

Holiday Beach

Kodiak Co: Kodiak Is. Bor. AK 99619-

Landholding Agency: DOT

Property Number: 87199720003

Status: Excess

Reason: Secured Area

Bldg. 172, USCG ISC Kodiak

Nyman's Peninsula

Kodiak Co: Kodiak Is. Bor. AK 99619-

Landholding Agency: DOT

Property Number: 87199720004

Status: Excess

Reason: Secured Area

Bldg. 160, USCG ISC Kodiak

Comsta/Buskin Lake

Kodiak Co: Kodiak Is. Bor. AK 99619-

Landholding Agency: DOT

Property Number: 87199720005

Status: Excess

Reason: Secured Area

Bldg. 16

Airstation Kodiak

Kodiak Co: AK 99615-

Landholding Agency: DOT

Property Number: 87200010001

Status: Excess

Reasons: Within 2000 ft. of flammable or explosive material, Within airport runway clear zone, Secured Area

Arizona

Facility 90002

Holbrook Radar Site

Holbrook Co: Navajo AZ 86025-

Landholding Agency: Air Force

Property Number: 18199340049

Status: Unutilized

Reason: Within airport runway clear zone

California

Bldg. 707 63 ABG/DE

Norton Air Force Base

Norton Co: San Bernadino CA 92409-5045

Landholding Agency: Air Force

Property Number: 18199010193

Status: Excess

Reasons: Within 2000 ft. of flammable or explosive material, Secured Area

Bldg. 575 63 ABG/DE

Norton Air Force Base

Norton Co: San Bernadino CA 92409-5045

Landholding Agency: Air Force

Property Number: 18199010195

Status: Excess

Reason: Within 2000 ft. of flammable or explosive material

Bldg. 502 63 ABG/DE

Norton Air Force Base

Norton Co: San Bernadino CA 92409-5045

Landholding Agency: Air Force

Property Number: 18199010196

Status: Excess

Reasons: Within 2000 ft. of flammable or explosive material, Secured Area

Bldg. 523 63 ABG/DE

Norton Air Force Base

Norton Co: San Bernadino CA 92409-5045

Landholding Agency: Air Force

Property Number: 18199010197

Status: Excess

Reasons: Within 2000 ft. of flammable or explosive material, Secured Area

Bldg. 100

Point Arena Air Force Station

(See County) Co: Mendocino CA 95468-5000

Landholding Agency: Air Force

Property Number: 18199010233

Status: Unutilized

Reasons: Secured Area

Bldg. 101

Point Arena Air Force Station

(See County) Co: Mendocino CA 95468-5000

Landholding Agency: Air Force

Property Number: 18199010234

Status: Underutilized

Reason: Secured Area

Bldg. 116

Point Arena Air Force Station

(See County) Co: Mendocino CA 95468-5000

Landholding Agency: Air Force

Property Number: 18199010235

Status: Unutilized

Reason: Secured Area

Bldg. 202

Point Arena Air Force Station

(See County) Co: Mendocino CA 95468-5000

Landholding Agency: Air Force

Property Number: 18199010236

Status: Unutilized

Reason: Secured Area

Bldg. 201

Vandenberg Air Force Base

Point Arguello

Vandenberg AFB Co: Santa Barbara CA 93437-

Location: Highway 1, Highway 246, Coast Road, Pt Sal Road, Miguelito Cyn.

Landholding Agency: Air Force

Property Number: 18199010546

Status: Unutilized

Reason: Secured Area

Bldg. 202

Vandenberg Air Force Base

Point Arguello

Vandenberg AFB Co: Santa Barbara CA 93437-

Location: Highway 1, Highway 246, Coast Road, Pt Sal Road, Miguelito Cyn.

Landholding Agency: Air Force

Property Number: 18199010547

Status: Unutilized

Reason: Secured Area

Bldg. 203

Vandenberg Air Force Base

Point Arguello

Vandenberg AFB Co: Santa Barbara CA 93437-

Location: Highway 1, Highway 246, Coast Road, Pt Sal Road, Miguelito Cyn.

Landholding Agency: Air Force

Property Number: 18199010548

Status: Unutilized

Reason: Secured Area

Bldg. 204

Vandenberg Air Force Base

Point Arguello

Vandenberg AFB Co: Santa Barbara CA 93437-

Location: Highway 1, Highway 246, Coast Road, Pt Sal Road, Miguelito Cyn.

Landholding Agency: Air Force

Property Number: 18199010549

Status: Unutilized

Reason: Secured Area

Bldg. 1823

Vandenberg Air Force Base

Vandenberg AFB Co: Santa Barbara CA 93437-

Location: Highway 1, Highway 246, Coast Road, Pt Sal Road, Miguelito Cyn.

Landholding Agency: Air Force

Property Number: 18199130360

Status: Excess

Reason: Within 2000 ft. of flammable or explosive material, Secured Area

Bldg. 10312

Vandenberg Air Force Base

Vandenberg AFB Co: Santa Barbara CA 93437-

Landholding Agency: Air Force

Property Number: 18199210026

Status: Unutilized

Reason: Secured Area

Bldg. 16104, Vandenberg AFB

Vandenberg AFB Co: Santa Barbara CA 93437-

Location: Hwy 1, Hwy 246; Coast Rd., Pt Sal Rd.; Miguelito Cyn

Landholding Agency: Air Force

Property Number: 18199230020

Status: Underutilized

Reason: Secured Area

Bldg. 5428, Vandenberg AFB

Vandenberg AFB Co: Santa Barbara CA 93437-

Landholding Agency: Air Force

Property Number: 18199310015

Status: Unutilized

Reason: Secured Area

Bldg. 7304, Vandenberg AFB

Vandenberg AFB Co: Santa Barbara CA 93437-

Landholding Agency: Air Force

Property Number: 18199310030

Status: Unutilized

Reason: Secured Area

Bldg. 8215

Vandenberg Air Force Base

Vandenberg AFB Co: Santa Barbara CA 93437-

Landholding Agency: Air Force

Property Number: 18199330016

Status: Unutilized

Reason: Secured Area

Bldg. 1988

Vandenberg Air Force Base

Vandenberg AFB Co: Santa Barbara CA 93437-

Landholding Agency: Air Force

Property Number: 18199340003

Status: Unutilized

Reasons: Electrical Power Generator Bldg., Secured Area

Bldg. 1324

Vandenberg Air Force Base

Vandenberg AFB Co: Santa Barbara CA 93437-

Landholding Agency: Air Force

Property Number: 18199340006

Status: Unutilized

Reason: Secured Area

Bldg. 1341

Vandenberg Air Force Base

Vandenberg AFB Co: Santa Barbara CA 93437-

Landholding Agency: Air Force

Property Number: 18199340007

Status: Unutilized

Reason: Secured Area

Bldg. 1955

Vandenberg Air Force Base

Vandenberg AFB Co: Santa Barbara CA 93437-

Landholding Agency: Air Force

Property Number: 18199340008

Status: Unutilized

Reason: Secured Area

Bldg. 6443

Vandenberg Air Force Base

Vandenberg AFB Co: Santa Barbara CA 93437-

Landholding Agency: Air Force

Property Number: 18199340020

Status: Unutilized

Reason: Secured Area

Bldg. 7306

Vandenberg Air Force Base

Vandenberg AFB Co: Santa Barbara CA 93437-

Landholding Agency: Air Force

Property Number: 18199340022

Status: Unutilized

Reason: Secured Area

Bldg. 16164

Vandenberg Air Force Base

Vandenberg AFB Co: Santa Barbara CA 93437-

Landholding Agency: Air Force

Property Number: 18199340028

Status: Unutilized

Reason: Secured Area

Bldg. 422

Vandenberg Air Force Base

Vandenberg AFB Co: Santa Barbara CA 93437-

Landholding Agency: Air Force

Property Number: 18199530029

Status: Unutilized

Reasons: Secured Area, Extensive deterioration

Bldg. 431

Vandenberg Air Force Base

Vandenberg AFB Co: Santa Barbara CA 93437-

Landholding Agency: Air Force

Property Number: 18199530030

Status: Unutilized

Reasons: Secured Area, Extensive deterioration

Bldg. 470

Vandenberg Air Force Base

Vandenberg AFB Co: Santa Barbara CA 93437-

Landholding Agency: Air Force

Property Number: 18199530031

Status: Unutilized

Reasons: Secured Area, Extensive deterioration

Bldg. 480

Vandenberg Air Force Base

Vandenberg AFB Co: Santa Barbara CA 93437-

Landholding Agency: Air Force

Property Number: 18199530032

Status: Unutilized

Reasons: Secured Area, Extensive deterioration

Bldg. 6606

Vandenberg Air Force Base

Vandenberg AFB Co: Santa Barbara CA 93437-

Landholding Agency: Air Force

Property Number: 18199530037

Status: Unutilized

Reasons: Secured Area, Extensive deterioration

Bldg. 7307

Vandenberg Air Force Base

Vandenberg AFB Co: Santa Barbara CA 93437-

Landholding Agency: Air Force

Property Number: 18199530039

Status: Unutilized

Reasons: Secured Area, Extensive deterioration

Bldg. 10717

Vandenberg Air Force Base

Vandenberg AFB Co: Santa Barbara CA 93437-

Landholding Agency: Air Force

Property Number: 18199530041

Status: Unutilized

Reasons: Secured Area, Extensive deterioration

Bldg. 10722

Vandenberg Air Force Base

Vandenberg AFB Co: Santa Barbara CA 93437-

Landholding Agency: Air Force

Property Number: 18199530043

Status: Unutilized

Reasons: Secured Area, Extensive deterioration

Bldg. 893

Vandenberg AFB

Vandenberg AFB Co: Santa Barbara CA 93437-

Landholding Agency: Air Force

Property Number: 18199620028

Status: Unutilized

Reasons: Secured Area, Extensive deterioration

Bldg. 9350

Vandenberg AFB

Vandenberg AFB Co: Santa Barbara CA 93437-

Landholding Agency: Air Force

Property Number: 18199620030

Status: Unutilized

Reasons: Secured Areas, Extensive deterioration

Bldg. 13003

Vandenberg AFB

Vandenberg AFB Co: Santa Barbara CA 93437-

Landholding Agency: Air Force

Property Number: 18199620031

Status: Unutilized

Reasons: Secured Area, Extensive deterioration

Bldg. 13222

Vandenberg AFB

Vandenberg AFB Co: Santa Barbara CA 93437-

Landholding Agency: Air Force

Property Number: 18199620032

Status: Unutilized

Reasons: Secured Area, Extensive deterioration

Bldg. 815

Vandenberg AFB

Vandenberg AFB Co: Santa Barbara CA 93437-

Landholding Agency: Air Force

Property Number: 18199630040

Status: Unutilized

Reasons: Secured Area, Extensive deterioration

Bldg. 1850

Vandenberg AFB

Vandenberg AFB Co: Santa Barbara CA 93437-

Landholding Agency: Air Force

Property Number: 18199630041

Status: Unutilized

Reasons: Secured Area, Extensive deterioration

Bldg. 1853

Vandenberg AFB

Vandenberg AFB Co: Santa Barbara CA 93437-

Landholding Agency: Air Force

Property Number: 18199630042

Status: Unutilized

Reasons: Secured Area, Extensive deterioration

Bldg. 1856

Vandenberg AFB

Vandenberg AFB Co: Santa Barbara CA 93437-

Landholding Agency: Air Force

Property Number: 18199630043

Status: Unutilized

Reasons: Secured Area, Extensive deterioration

Bldg. 1865

Vandenberg AFB

Vandenberg AFB Co: Santa Barbara CA 93437-

Landholding Agency: Air Force

Property Number: 18199630044

Status: Unutilized

Reasons: Secured Area, Extensive deterioration

Bldg. 1874

Vandenberg AFB

Vandenberg AFB Co: Santa Barbara CA 93437-

Landholding Agency: Air Force

Property Number: 18199630045

Status: Unutilized

Reasons: Secured Area, Extensive deterioration

Bldg. 1875

Vandenberg AFB

Vandenberg AFB Co: Santa Barbara CA 93437-

Landholding Agency: Air Force

Property Number: 18199630046

Status: Unutilized

Reasons: Secured Area, Extensive deterioration

Bldg. 1877

Vandenberg AFB

Vandenberg AFB Co: Santa Barbara CA 93437-

Landholding Agency: Air Force

Property Number: 18199630047

Status: Unutilized

Reasons: Secured Area, Extensive deterioration

Bldg. 1879

Vandenberg AFB

Vandenberg AFB Co: Santa Barbara CA 93437-

Landholding Agency: Air Force

Property Number: 18199630048

Status: Unutilized

Reasons: Secured Area, Extensive deterioration

Bldg. 1885

Vandenberg AFB

Vandenberg AFB Co: Santa Barbara CA 93437-

Landholding Agency: Air Force

Property Number: 18199630049

Status: Unutilized

Reasons: Secured Area, Extensive deterioration

Bldg. 1898

Vandenberg AFB

Vandenberg AFB Co: Santa Barbara CA 93437-

Landholding Agency: Air Force

Property Number: 18199630050

Status: Unutilized

Reasons: Secured Area, Extensive deterioration

Bldg. 06445

Vandenberg AFB

Vandenberg AFB Co: Santa Barbara CA 93437-

Landholding Agency: Air Force

Property Number: 18199630052

Status: Unutilized

Reasons: Secured Area, Extensive deterioration

Bldg. 21160

Vandenberg AFB

Vandenberg AFB Co: Santa Barbara CA 93437-

Landholding Agency: Air Force

Property Number: 18199630055

Status: Unutilized

Reasons: Secured Area, Extensive deterioration

Bldg. 06437

Vandenberg Air Force Base

Vandenberg AFB Co: Santa Barbara CA 93437-

Landholding Agency: Air Force

Property Number: 18199710014

Status: Unutilized

Reasons: Secured Area, Extensive deterioration

Bldg. 10715

Vandenberg Air Force Base

Vandenberg AFB Co: Santa Barbara CA 93437-

Landholding Agency: Air Force

Property Number: 18199710016

Status: Unutilized

Reasons: Secured Area, Extensive deterioration

Bldg. 00879

Vandenberg AFB

Vandenberg AFB Co: Santa Barbara CA 93437-

Landholding Agency: Air Force

Property Number: 18199720009

Status: Unutilized

Reasons: Secured Area, Extensive deterioration

Bldg. 01630

Vandenberg AFB

Vandenberg AFB Co: Santa Barbara CA 93437-

Landholding Agency: Air Force

Property Number: 18199720011

Status: Unutilized

Reasons: Secured Area, Extensive deterioration

Bldg. 01797

Vandenberg AFB

Vandenberg AFB Co: Santa Barbara CA 93437-

Landholding Agency: Air Force

Property Number: 18199720012

Status: Unutilized

Reasons: Secured Area, Extensive deterioration

Bldg. 01830

Vandenberg AFB

Vandenberg AFB Co: Santa Barbara CA 93437-

Landholding Agency: Air Force

Property Number: 18199720013

Status: Unutilized

Reasons: Secured Area, Extensive deterioration

Bldg. 01852

Vandenberg AFB

Vandenberg AFB Co: Santa Barbara CA 93437-

Landholding Agency: Air Force

Property Number: 18199720014

Status: Unutilized

Reasons: Secured Area, Extensive deterioration

Bldg. 10252

Vandenberg AFB

Vandenberg AFB Co: Santa Barbara CA 93437-

Landholding Agency: Air Force

Property Number: 18199720017

Status: Unutilized

Reasons: Secured Area, Extensive deterioration

Bldg. 11345

Vandenberg AFB

Vandenberg AFB Co: Santa Barbara CA 93437-

Landholding Agency: Air Force

Property Number: 18199720019

Status: Unutilized

Reasons: Secured Area, Extensive deterioration

Bldg. 14019

Vandenberg AFB

Vandenberg AFB Co: Santa Barbara CA 93437-

Landholding Agency: Air Force

Property Number: 18199720022

Status: Unutilized

Reasons: Secured Area, Extensive deterioration

Bldg. 14026

Vandenberg AFB

Vandenberg AFB Co: Santa Barbara CA 93437-

Landholding Agency: Air Force

Property Number: 18199720023

Status: Unutilized

Reasons: Secured Area, Extensive deterioration

Bldg. 16162

Vandenberg AFB

Vandenberg AFB Co: Santa Barbara CA 93437-

Landholding Agency: Air Force

Property Number: 18199720024

Status: Unutilized

Reasons: Secured Area, Extensive deterioration

Bldg. 22300

Vandenberg AFB

Vandenberg AFB Co: Santa Barbara CA 93437-

Landholding Agency: Air Force

Property Number: 18199730002

Status: Unutilized

Reasons: Secured Area, Extensive deterioration

Bldg. 08412

Vandenberg AFB

Vandenberg AFB Co: Santa Barbara CA 93437-

Landholding Agency: Air Force

Property Number: 18199740006

Status: Unutilized

Reason: Secured Area,

Bldg. 11153

Vandenberg AFB

Vandenberg AFB Co: Santa Barbara CA 93437-

Landholding Agency: Air Force

Property Number: 18199740007

Status: Unutilized

Reason: Secured Area,

Bldg. 11154

Vandenberg AFB

Vandenberg AFB Co: Santa Barbara CA 93437-

Landholding Agency: Air Force

Property Number: 18199740008

Status: Unutilized

Reasons: Secured Area, Extensive deterioration

Bldg. 2-11 20-21

Edwards AFB

P-Area Housing AFB Co: Edwards Kern CA 93524-

Landholding Agency: Air Force

Property Number: 18199810029

Status: Unutilized

Reason: Extensive deterioration

Bldg. 1681

Vandenberg AFB

Co: Santa Barbara CA 93437-

Landholding Agency: Air Force

Property Number: 18199820003

Status: Unutilized

Reasons: Secured Area, Extensive deterioration

Bldg. 01839

Vandenberg AFB

Co: Santa Barbara CA 93437-

Landholding Agency: Air Force

Property Number: 18199820004

Status: Unutilized

Reasons: Secured Area, Extensive deterioration

Bldg. 06519

Vandenberg AFB

Co: Santa Barbara CA 93437-

Landholding Agency: Air Force

Property Number: 18199820005

Status: Unutilized

Reasons: Secured Area, Extensive deterioration

Bldg. 06526

Vandenberg AFB

Co: Santa Barbara CA 93437-

Landholding Agency: Air Force

Property Number: 18199820006

Status: Unutilized

Reasons: Secured Area, Extensive deterioration

Bldg. 11167

Vandenberg AFB

Co: Santa Barbara CA 93437-

Landholding Agency: Air Force

Property Number: 18199820007

Status: Unutilized

Reasons: Secured Area, Extensive deterioration

Bldg. 11168

Vandenberg AFB

Co: Santa Barbara CA 93437-

Landholding Agency: Air Force

Property Number: 18199820008

Status: Unutilized

Reasons: Secured Area, Extensive deterioration

Bldg. 827

Vandenberg AFB

Vandenberg AFB Co: Santa Barbara CA 93437-

Landholding Agency: Air Force

Property Number: 18200010002

Status: Unutilized

Reasons: Secured Area, Extensive deterioration

Bldgs. 16153 & 16154

Vandenberg AFB

Vandenberg AFB Co: Santa Barbara CA 93437-

Landholding Agency: Air Force

Property Number: 18200010003

Status: Unutilized

Reasons: Secured Area, Extensive deterioration

10 Bldg.

USCG Station Humboldt Bay

Samoa Co: Humboldt CA 95564-9999

Landholding Agency: DOT

Property Number: 87199440027

Status: Excess

Reason: Extensive deterioration

Comment: Land to be relinquished to BLM (Public Domain Land)

Bldg. T102

USCG Training Center

Petaluma Co: Sonoma CA 94952-

Landholding Agency: DOT

Property Number: 87199830001

Status: Unutilized

Reason: Within 2000 ft. of flammable or explosive material

Colorado

Bldg. 00910

“Blue Barn”—Falcon Air Force Base

Falcon Co: El Paso CO 80912-

Landholding Agency: Air Force

Property Number: 18199530046

Status: Underutilized

Reason: Secured Area

Bldg. 1007

U.S. Air Force Academy

Colorado Springs Co: El Paso CO 80814-2400

Landholding Agency: Air Force

Property Number: 18199730003

Status: Underutilized

Reasons: Within 2000 ft. of flammable or explosive material, Secured Area, Extensive deterioration

Bldg. 1008

U.S. Air Force Academy

Colorado Springs Co: El Paso CO 80814-2400

Landholding Agency: Air Force

Property Number: 18199730004

Status: Underutilized

Reasons: Within 2000 ft. of flammable or explosive material, Secured Area, Extensive deterioration

Bldg. 9214

U.S. Air Force Academy

Colorado Springs Co: El Paso Co 80814-2400

Landholding Agency: Air Force

Property Number: 18199730012

Status: Underutilized

Reasons: Within airport runway clear zone, Secured Area

Bldg. 7067

USAF Academy

Co: El Paso CO 80840-

Landholding Agency: Air Force

Property Number: 18199810005

Status: Unutilized

Reason: Extensive deterioration

Bldg. 8222

USAF Academy

Co: El Paso CO 80840-

Landholding Agency: Air Force

Property Number: 18199810006

Status: Unutilized

Reason: Extensive deterioration

Bldg. 9200

USAF Academy

Co: El Paso CO 80840-

Landholding Agency: Air Force

Property Number: 18199810007

Status: Unutilized

Reasons: Within airport runway clear zone, Secured Area

Bldg. 9022

USAF Academy

El Paso Co: CO 80840-2400

Landholding Agency: Air Force

Property Number: 18200010004

Status: Unutilized

Reason: Extensive deterioration

Alameda Facility

350 S. Santa Fe Drive

Denver CO: Denver CO 80223-

Landholding Agency: DOT

Property Number: 87199010014

Status: Unutilized

Reason: Other environmental

Comment: contamination

Connecticut

Bldg. 13

Bradley International Airport

East Granby Co: Hartford CT 06026-9309

Landholding Agency: Air Force

Property Number: 18199640002

Status: Unutilized

Reasons: Within 2000 ft. of flammable or explosive material, Secured Area

Bldg. 10

Bradley International Airport

East Granby Co: Hartford CT 06026-9309

Landholding Agency: Air Force

Property Number: 18199640003

Status: Unutilized

Reasons: Within 2000 ft. of flammable or explosive material, Secured Area

Bldg. 5

Bradley International Airport

East Granby Co: Hartford CT 06026-9309

Landholding Agency: Air Force

Property Number: 18199640004

Status: Unutilized

Reason: Within 2000 ft. of flammable or explosive material

Bldg. 4

Bradley International Airport

East Granby Co: Hartford CT 06026-9309

Landholding Agency: Air Force

Property Number: 18199640005

Status: Unutilized

Reason: Within 2000 ft. of flammable or explosive material

Falkner Island Light

U.S. Coast Guard

Guilford Co: New Haven CT 06512

Landholding Agency: DOT

Property Number: 87199240031

Status: Unutilized

Reason: Floodway

Florida

Bldg. 1179

Patrick Air Force Base

1179 School Avenue

Co: Brevard FL 32935-

Landholding Agency: Air Force

Property Number: 18199240030

Status: Unutilized

Reasons: Extensive Deterioration, Secured Area

Bldg. 575

Patrick Air Force Base

Co: Brevard FL 32925-

Landholding Agency: Air Force

Property Number: 18199320004

Status: Unutilized

Reasons: Within 2000 ft. of flammable or explosive material, Within airport runway clear zone, Extensive Deterioration, Secured Area

Bldg. 921

Patrick Air Force Base

Co: Brevard FL 32925-

Landholding Agency: Air Force

Property Number: 18199430002

Status: Unutilized

Reasons: Within 2000 ft. of flammable or explosive material, Secured Area

23 Family Housing

MacDill Auxiliary Airfield

No. 1

Avon Park Co: Polk FL 33825-

Location: Include Bldgs: 448, 451 thru 470, 472 and 474

Landholding Agency: Air Force

Property Number: 18199520006

Status: Excess

Reason: Within airport runway clear zone

Bldg. 240

MacDill Auxiliary Airfield

No. 1

Avon Park Co: Polk FL 33825-

Landholding Agency: Air Force

Property Number: 18199520007

Status: Excess

Reason: Extensive deterioration

Bldg. 307

Patrick Air Force

Patrick AFB Co: Brevard FK

Landholding Agency: Air Force

Property Number: 18199710022

Status: Unutilized

Reason: Secured Area

Bldg. 315

Patrick Air Force Base

Patrick AFB Co: Brevard FL

Landholding Agency: Air Force

Property Number: 18199710023

Status: Unutilized

Reason: Secured Area

Bldg. 317

Patrick Air Force Base

Patrick AFB Co: Brevard FL

Landholding Agency: Air Force

Property Number: 18199710024

Status: Unutilized

Reasons: Secured Area, Extensive deterioration

Bldg. 318

Patrick Air Force Base

Patrick AFB Co: Brevard FL

Landholding Agency: Air Force

Property Number: 18199710025

Status: Unutilized

Reasons: Secured Area, Extensive deterioration

Facility No. 1114

Cape Canaveral Air Station

Cape Canaveral AS Co: Brevard FL 32925-

Landholding Agency: Air Force

Property Number: 18199710027

Status: Unutilized

Reasons: Secured Area, Extensive deterioration

Facility No. 10831

Cape Canaveral Air Station

Cape Canaveral AS Co: Brevard FL 32925-

Landholding Agency: Air Force

Property Number: 18199710033

Status: Unutilized

Reason: Secured Area

Facility No. 15500

Cape Canaveral Air Station

Cape Canaveral AS Co: Brevard FL 32925-

Landholding Agency: Air Force

Property Number: 18199710034

Status: Unutilized

Reasons: Secured Area, Extensive deterioration

Facility No. 39764

Cape Canaveral Air Station

Cape Canaveral AS Co: Brevard FL 32925-

Landholding Agency: Air Force

Property Number: 18199710035

Status: Unutilized

Reason: Secured Area

Facility No. 70662

Cape Canaveral Air Station

Cape Canaveral AS Co: Brevard FL 32925-

Landholding Agency: Air Force

Property Number: 18199710037

Status: Unutilized

Reasons: Secured Area, Extensive deterioration

Facility No. 72920

Cape Canaveral Air Station

Cape Canaveral AS Co: Brevard FL 32925-

Landholding Agency: Air Force

Property Number: 18199710038

Status: Unutilized

Reason: Secured Area

Bldg. 895, Eglin AFB

Eglin AFB Co: Okaloosa FL 32542-5133

Landholding Agency: Air Force

Property Number: 18199710045

Status: Unutilized

Reason: Extensive deterioration

Fac. No. 09010

Cape Canaveral Air Station

Cape Canaveral Co: Brevard FL 32925-

Landholding Agency: Air Force

Property Number 18199810008

Status: Unutilized

Reason: Secured Area

Bldg. 744

Eglin AFB

Co: Okaloosa FL 32542-5133

Landholding Agency: Air Force

Property Number: 18199820009

Status: Unutilized

Reasons: Secured Area, Extensive deterioration

Bldg. 3008

Eglin AFB

Co: Okaloosa FL 32542-5133

Landholding Agency: Air Force

Property Number: 18199820010

Status: Unutilized

Reasons: Secured Area, Extensive deterioration

Bldg. 3010

Eglin AFB

Co: Okaloosa FL 32542-5133

Landholding Agency: Air Force

Property Number: 18199820011

Status: Unutilized

Reasons: Secured Area, Extensive deterioration

Bldg. 12709

Eglin AFB

Co: Okaloosa FL 32542-5133

Landholding Agency: Air Force

Property Number: 18199820012

Status: Unutilized

Reasons: Secured Area, Extensive deterioration

Bldg. 08807

Cape Canaveral Air Station

Co: Brevard FL 32925-

Landholding Agency: Air Force

Property Number: 18199820013

Status: Unutilized

Reason: Secured Area

Bldg. 08809

Cape Canaveral Air Station

Co: Brevard FL 32925-

Landholding Agency: Air Force

Property Number: 18199820014

Status: Unutilized

Reasons: Secured Area, Extensive deterioration

Bldg. 21911

Cape Canaveral Air Station

Co: Brevard FL 32925-

Landholding Agency: Air Force

Property Number: 18199820015

Status: Unutilized

Reasons: Secured Area, Extensive deterioration

Bldg. 21914

Cape Canaveral Air Station

Co: Brevard FL 32925-

Landholding Agency: Air Force

Property Number: 18199820016

Status: Unutilized

Reasons: Secured Area, Extensive deterioration

Bldg. 32349

Cape Canaveral Air Station

Co: Brevard FL 32925-

Landholding Agency: Air Force

Property Number: 18199820017

Status: Unutilized

Reasons: Secured Area, Extensive deterioration

Facility 44608

Cape Canaveral Air Station

Co: Brevard FL 32925-

Landholding Agency: Air Force

Property Number: 18199830006

Status: Unutilized

Reasons: Within 2000 ft. of flammable or explosive material, Secured Area

Bldg. 12577

Elgin AFB

Santa Rosa Island

Okaloosa Co: FL 32542-5133

Landholding Agency: Air Force

Property Number: 18199910001

Status: Unutilized

Reasons: Floodway, Secured Area, Extensive deterioration

Bldg. 12576

Elgin AFB

Santa Rosa Island

Okaloosa Co: FL 32542-5133

Landholding Agency: Air Force

Property Number: 18199910002

Status: Unutilized

Reasons: Floodway, Secured Area, Extensive deterioration

Bldg. 12534

Elgin AFB

Santa Rosa Island

Okaloosa Co: FL 32542-5133

Landholding Agency: Air Force

Property Number: 18199910003

Status: Unutilized

Reasons: Floodway, Secured Area, Extensive deterioration

Bldg. 12533

Elgin AFB

Santa Rosa Island

Okaloosa Co: FL 32542-5133

Landholding Agency: Air Force

Property Number: 18199910004

Status: Unutilized

Reasons: Floodway, Secured Area, Extensive deterioration

Bldg. 12528

Elgin AFB

Santa Rosa Island

Okaloosa Co: FL 32542-5133

Landholding Agency: Air Force

Property Number: 18199910005

Status: Unutilized

Reasons: Floodway, Secured Area, Extensive deterioration

Bldg. 9281

Elgin AFB

Santa Rosa Island

Okaloosa Co: FL 32542-5133

Landholding Agency: Air Force

Property Number: 18199910006

Status: Unutilized

Reasons: Floodway, Secured Area, Extensive deterioration

Bldg. 9280

Elgin AFB

Santa Rosa Island

Okaloosa Co: FL 32542-5133

Landholding Agency: Air Force

Property Number: 18199910007

Status: Unutilized

Reasons: Floodway, Secured Area, Extensive deterioration

Bldg. 609

Elgin AFB

Okaloosa Co: FL 32542-5133

Landholding Agency: Air Force

Property Number: 18199910008

Status: Unutilized

Reasons: Floodway, Secured Area, Extensive deterioration

Bldg. 01103

Cape Canaveral Air Station

Brevard Co: FL 32925-

Landholding Agency: Air Force

Property Number: 18199910009

Status: Unutilized

Reason: Secured Area

Bldg. 55152

Cape Canaveral Air Station

Brevard Co: FL 32925-

Landholding Agency: Air Force

Property Number: 18199910010

Status: Unutilized

Reason: Secured Area

Facility 1737

Cape Canaveral Air Station

Cape Canaveral Co: Brevard FL 32907-

Landholding Agency: Air Force

Property Number: 18199920002

Status: Underutilized

Reason: Secured Area

Facility 5200

Cape Canaveral Air Station

Cape Canaveral Co: Brevard Co FL 32925-

Landholding Agency: Air Force

Property Number: 18199920003

Status: Underutilized

Reason: Secured Area

Facility 49950

Cape Canaveral Air Station

Cape Canaveral Co: Brevard FL 32907-

Landholding Agency: Air Force

Property Number: 18199920004

Status: Underutilized

Reason: Secured Area

Bldg. 1704

Eglin AFB

Eglin AFB Co: Okaloosa FL 32542-

Landholding Agency: Air Force

Property Number: 18199930007

Status: Unutilized

Reasons: Floodway, Secured Area, Extensive deterioration

Bldg. 01390

Cape Canaveral Air Station

Cape Canaveral Co: Brevard FL 32907-

Landholding Agency: Air Force

Property Number: 18199930008

Status: Unutilized

Reason: Secured Area

Facility 90330

Cape Canaveral Air Station

Cape Canaveral Co: Brevard FL 32907-

Landholding Agency: Air Force

Property Number: 18199940008

Status: Unutilized

Reason: Secured Area

Bldg. #3, Recreation Cottage

USCG Station

Marathon Co: Monroe FL 33050-

Landholding Agency: DOT

Property Number: 87199210008

Status: Unutilized

Reasons: Floodway, Secured Area

Bldg. 103, Trumbo Point

Key West Co: Monroe FL 33040-

Landholding Agency: DOT

Property Number: 87199230001

Status: Unutilized

Reasons: Floodway, Secured Area

Exchange Building

St. Petersburg Co: Pinellas FL 33701-

Landholding Agency: DOT

Property Number: 87199410004

Status: Unutilized

Reason: Floodway

9988 Keepers Quarters A

Cape San Blas

Port St. Joe Co: Gulf FL

Landholding Agency: DOT

Property Number: 87199440009

Status: Underutilized

Reasons: Floodway, Secured Area

9989 Keepers Quarters B

Cape San Blas

Port St. Joe Co: Gulf FL

Landholding Agency: DOT

Property Number: 87199440010

Status: Underutilized

Reasons: Floodway, Secured Area

9990 Bldg.

Cape San Blas

Port St. Joe Co: Gulf FL

Landholding Agency: DOT

Property Number: 87199440011

Status: Underutilized

Reasons: Floodway, Secured Area

9991 Plant Bldg.

Cape San Blas

Port St. Joe Co: Gulf FL

Landholding Agency: DOT

Property Number: 87199440012

Status: Underutilized

Reasons: Floodway, Secured Area

9992 Shop Bldg.

Cape San Blas

Port St. Joe Co: Gulf FL

Landholding Agency: DOT

Property Number: 87199440013

Status: Underutilized

Reasons: Floodway, Secured Area

9993 Admin. Bldg.

Cape San Blas

Port St. Joe Co: Gulf FL

Landholding Agency: DOT

Property Number: 87199440014

Status: Underutilized

Reasons: Floodway, Secured Area

9994 Water Pump Bldg.

Cape San Blas

Port St. Joe Co: Gulf FL

Landholding Agency: DOT

Property Number: 87199440015

Status: Underutilized

Reasons: Floodway, Secured Area

Storage Bldg.

Cape San Blas

Port St. Joe Co: Gulf FL

Landholding Agency: DOT

Property Number: 87199440016

Status: Underutilized

Reasons: Floodway, Secured Area

9999 Storage Bldg.

Cape San Blas

Port St. Joe Co: Gulf FL

Landholding Agency: DOT

Property Number: 87199440017

Status: Underutilized

Reasons: Floodway, Secured Area

3 Bldgs. and Land

Peanut Island Station

Riveria Beach Co: Palm Beach FL 33419-0909

Landholding Agency: DOT

Property Number: 87199510009

Status: Underutilized

Reason: Floodway, Secured Area

Cape St. George Lighthouse

Co: Franklin FL 32328-

Landholding Agency: DOT

Property Number: 87199640002

Status: Unutilized

Reason: Extensive deterioration

Georgia

Bldgs. 1180-1185

Robins AFB

Warner Robins Co: GA 31098-2207

Landholding Agency: Air Force

Property Number: 18200010005

Status: Unutilized

Reason: Extensive deterioration

Coast Guard Station

St. Simons Island

Co: Glynn GA 31522-0577

Landholding Agency: DOT

Property Number: 87199540002

Status: Unutilized

Reason: Extensive deterioration

Guam

Andersen South

Andersen Admin. Annex

360 housing units & a commercial structure

Mangilao GU 96923-

Landholding Agency: Air Force

Property Number: 18199840009

Status: Underutilized

Reason: Secured Area

Hawaii

Bldg. 1740

U.S. Coast Guard Air Station

Barbers Point

Honolulu Co: HI 96862-5800

Landholding Agency: DOT

Property Number: 87199910002

Status: Unutilized

Reason: Secured Area

Idaho

Bldg 1012

Mountain Home Air Force Base

7th Avenue

(See County) Co: Elmore ID 83648-

Landholding Agency: Air Force

Property Number: 18199030004

Status: Excess

Reason: Within 2000 ft. of flammable or explosive material

Bldg. 923

Mountain Home Air Force Base

7th Avenue

(See County) Co: Elmore ID 83648-

Landholding Agency: Air Force

Property Number: 18199030005

Status: Excess

Reason: Within 2000 ft. of flammable or explosive material

Bldg. 604

Mountain Home Air Force Base

Pine Street

(See County) Co: Elmore ID 83648-

Landholding Agency: Air Force

Property Number: 18199030006

Status: Excess

Reason: Within 2000 ft. of flammable or explosive material

Bldg. 229

Mt. Home Air Force Base

1st Avenue and A Street

Mt. Home AFB Co: Elmore ID 83648-

Landholding Agency: Air Force

Property Number: 18199040857

Status: Unutilized

Reason: Within 2000 ft. of flammable or explosive material, Within airport runway clear zone

Bldg. 4403

Mountain Home Air Force Base

Mountain Home Co: Elmore ID 83647-

Landholding Agency: Air Force

Property Number: 18199520008

Status: Unutilized

Reason: Extensive deterioration

Bldg. 101

Mountain Home Air Force

Co: Elmore ID 83648-

Landholding Agency: Air Force

Property Number: 18199840001

Status: Unutilized

Reason: Extensive deterioration

Bldg. 105

Mountain Home Air Force

Co: Elmore ID 83648-

Landholding Agency: Air Force

Property Number: 18199840002

Status: Unutilized

Reason: Extensive deterioration

Illinois

Calumet Harbor Station

U.S. Coast Guard

Chicago Co: Cook IL

Landholding Agency: DOT

Property Number: 87199310005

Status: Excess

Reason: Secured Area

Indiana

Bldg. 21, VA Medical Center

East 38th Street

Marion Co: Grant IN 46952-

Landholding Agency: VA

Property Number: 97199230001

Status: Excess

Reason: Extensive deterioration

Bldg. 22, VA Medical Center

East 38th Street

Marion Co: Grant IN 46952-

Landholding Agency: VA

Property Number: 97199230002

Status: Excess

Reason: Extensive deterioration

Bldg. 62, VA Medical Center

East 38th Street

Marion Co: Grant IN 46952-

Landholding Agency: VA

Property Number: 97199230003

Status: Excess

Reason: Extensive deterioration

Iowa

Bldg. 00671

Sioux Gateway Airport

Sioux Co: Woodbury IA 51110-

Landholding Agency: Air Force

Property Number: 18199310009

Status: Unutilized

Reason: Fuel pump station

Bldg. 00736

Sioux Gateway Airport

Sioux Co: Woodbury IA 51110-

Landholding Agency: Air Force

Property Number: 18199310010

Status: Unutilized

Reason: Pump station

Kansas

Bldg. 2703

Forbes Field

Topeka KS

Landholding Agency: Air Force

Property Number: 18199820018

Status: Unutilized

Reason: Extensive deterioration

Louisiana

Bldg. 3477

Barksdale Air Force Base

Davis Avenue

Barksdale AFB Co: Bossier LA 71110-5000

Landholding Agency: Air Force

Property Number: 18199140015

Status: Unutilized

Reason: Secured Area

Maine

Supply Bldg., Coast Guard

Southwest Harbor

Southwest Harbor Co: Hancock ME 04679-5000

Landholding Agency: DOT

Property Number: 87199240005

Status: Unutilized

Reason: Floodway

Base Exchange, Coast Guard

Southwest Harbor

Southwest Harbor Co: Hancock ME 04679-5000

Landholding Agency: DOT

Property Number: 87199240006

Status: Unutilized

Reason: Floodway

Engineering Shop, Coast Guard

Southwest Harbor

Southwest Harbor Co: Hancock ME 04679-5000

Landholding Agency: DOT

Property Number: 87199240007

Status: Unutilized

Reason: Floodway

Storage Bldg., Coast Guard

Southwest Harbor

Southwest Harbor Co: Hancock ME 04679-5000

Landholding Agency: DOT

Property Number: 87199240008

Status: Unutilized

Reason: Floodway

Squirrel Point Light

U.S. Coast Guard

Phippsburg Co: Sayadahoc ME 04530-

Landholding Agency: DOT

Property Number: 87199240032

Status: Unutilized

Reason: Floodway

Keepers Dwelling

Heron Neck Light, U.S. Coast Guard

Vinalhaven Co: Knox ME 04841-

Landholding Agency: DOT

Property Number: 87199240035

Status: Unutilized

Reason: Extensive deterioration

Fort Popham Light

Phippsburg Co: Sagadahoc ME 04562-

Landholding Agency: DOT

Property Number: 87199320024

Status: Unutilized

Reason: Extensive deterioration

Nash Island Light

U.S. Coast Guard

Addison Co: Washington ME 04606-

Landholding Agency: DOT

Property Number: 87199420005

Status: Unutilized

Reason: Inaccessible

Bldg.—South Portland Base

U.S. Coast Guard

S. Portland Co: Cumberland ME 04106-

Landholding Agency: DOT

Property Number: 87199420006

Status: Unutilized

Reason: Secured Area

Garage—Boothbay Harbor Stat.

Boothbay Harbor Co: Lincoln ME 04538-

Landholding Agency: DOT

Property Number: 87199430001

Status: Unutilized

Reason: Secured Area

Maryland

Bldg. 3542

Andrews AFB

Andrews AFB MD 20652-25177

Landholding Agency: Air Force

Property Number: 18199810010

Status: Unutilized

Reason: Secured Area

Bldg. 3543

Andrews AFB

Andrews AFB MD 20652-25177

Landholding Agency: Air Force

Property Number: 18199810011

Status: Unutilized

Reason: Secured Area

7 Bldgs.

Davidsonville Family Housing Annex

300, 301, 303, 305, 308, 309, 311

Landholding Agency: Air Force

Property Number: 18199910011

Status: Unutilized

Reason: Extensive deterioration

8 Bldgs.

Davidsonville Co: Anne Arundel MD 20755-

Landholding Agency: Air Force

Property Number: 18199810012

Status: Unutilized

Reason: Extensive deterioration

Bldgs. 38-39, 41, 43-46, 56

U.S. Coast Guard Yard

Baltimore MD 21226-

Landholding Agency: DOT

Property Number: 87199540005

Status: Unutilized

Reasons: Within 2000 ft. of flammable or explosive material, Secured Area, Extensive deterioration

Bldg. 53

U.S. Coast Guard Yard

Baltimore MD 21226-

Landholding Agency: DOT

Property Number: 87199540006

Status: Unutilized

Reason: Within 2000 ft. of flammable or explosive material, Secured Area, Extensive deterioration

Bldg. 6

U.S. Coast Guard Yard, 2401

Hawkins Point Rd.

Baltimore MD 21226-1797

Landholding Agency: DOT

Property Number: 87199620001

Status: Excess

Reasons: Within 2000 ft. of flammable or explosive material, Secured Area

Bldg. 59

U.S. Coast Guard Yard, 2401

Hawkins Point Rd.

Baltimore MD 21226-1797

Landholding Agency: DOT

Property Number: 87199620002

Status: Excess

Reason: Within 2000 ft. of flammable or explosive material, Secured Area

Massachusetts

Bldg. 110

Otis Air National Guard

Otis Co: MA 02542-5028

Landholding Agency: Air Force

Property Number: 18199940009

Status: Unutilized

Reason: Secured Area

Bldg. 4, USCG Support Center

Commercial Street

Boston Co: Suffolk MA 02203-

Landholding Agency: DOT

Property Number: 87199240001

Status: Underutilized

Reason: Secured Area

Eastern Point Light

U.S. Coast Guard

Gloucester Co: Essex MA 01930-

Landholding Agency: DOT

Property Number: 87199240029

Status: Unutilized

Reasons: Floodway, Secured Area

Storage Shed

Highland Light

N. Truro Co: Barnstable MA 02652-

Location: DeSota Johnson KS 66018-

Landholding Agency: DOT

Property Number: 87199430004

Status: Unutilized

Reasons: Extensive deterioration

Westview Street Wells

Lexington Co: MA 02173-

Landholding Agency: VA

Property Number: 97199920001

Status: Unutilized

Reason: Extensive deterioration

Michigan

Bldg. 71

Calumet Air Force Station

Calumet Co: Keweenaw MI 49913-

Landholding Agency: Air Force

Property Number: 18199010810

Status: Excess

Reason: Sewage treatment and disposal facility

Bldg. 99 (Water Well)

Calumet Air Force Station

Calumet Co: Keweenaw MI 49913-

Landholding Agency: Air Force

Property Number: 18199010831

Status: Excess

Reason: Water well

Bldg. 100 (Water Well)

Calumet Air Force Station

Calumet Co: Keweenaw MI 49913-

Landholding Agency: Air Force

Property Number: 18199010832

Status: Excess

Reason: Water well

Bldg. 118

Calumet Air Force Station

Calumet Co: Keweenaw MI 49913-

Landholding Agency: Air Force

Property Number: 18199010875

Status: Excess

Reason: Gasoline Station

Bldg. 120

Calumet Air Force Station

Calumet Co: Keweenaw MI 49913-

Landholding Agency: Air Force

Property Number: 18199010876

Status: Excess

Reason: Gasoline Station

Bldg. 166

Calumet Air Force Station

Calumet Co: Keweenaw MI 49913-

Landholding Agency: Air Force

Property Number: 18199010877

Status: Excess

Reason: Pump lift station

Bldg. 168

Calumet Air Force Station

Calumet Co: Keweenaw MI 49913-

Landholding Agency: Air Force

Property Number: 18199010878

Status: Excess

Reason: Gasoline station

Bldg. 69

Calumet Air Force Station

Calumet Co: Keweenaw MI 49913-

Landholding Agency: Air Force

Property Number: 18199010889

Status: Excess

Reason: Sewer pump facility.

Bldg. 2

Calumet Air Force Station

Calumet Co: Keweenaw MI 49913-

Landholding Agency: Air Force

Property Number: 18199010890

Status: Excess

Reason: Water pump station

Facility 20

Selfridge AFB

Mt. Clemens Co: Macomb MI 48045-5295

Landholding Agency: Air Force

Property Number: 18199630001

Status: Unutilized

Reasons: Within 2000 ft. of flammable or explosive material, Secured Area

Facility 21

Selfridge AFB

Mt. Clemens Co: Macomb MI 48045-5295

Landholding Agency: Air Force

Property Number: 18199630002

Status: Unutilized

Reasons: Within 2000 ft. of flammable or explosive material, Secured Area

Facility 30

Selfridge AFB

Mt. Clemens Co: Macomb MI 48045-5295

Landholding Agency: Air Force

Property Number: 18199630003

Status: Unutilized

Reasons: Within 2000 ft. of flammable or explosive material, Secured Area

Facility 98

Selfridge AFB

Mt. Clemens Co: Macomb MI 48045-5295

Landholding Agency: Air Force

Property Number: 18199630004

Status: Unutilized

Reasons: Within 2000 ft. of flammable or explosive material, Secured Area

Facility 103

Selfridge AFB

Mt. Clemens Co: Macomb MI 48045-5295

Landholding Agency: Air Force

Property Number: 18199630005

Status: Unutilized

Reasons: Within 2000 ft. of flammable or explosive material, Secured Area

Facility 116

Selfridge AFB

Mt. Clemens Co: Macomb MI 48045-5295

Landholding Agency: Air Force

Property Number: 18199630006

Status: Unutilized

Reasons: Within 2000 ft. of flammable or explosive material, Secured Area

Facility 129

Selfridge AFB

Mt. Clemens Co: Macomb MI 48045-5295

Landholding Agency: Air Force

Property Number: 18199630007

Status: Unutilized

Reasons: Within 2000 ft. of flammable or explosive material, Secured Area

Facility 152

Selfridge AFB

Mt. Clemens Co: Macomb MI 48045-5295

Landholding Agency: Air Force

Property Number: 18199630008

Status: Unutilized

Reasons: Within 2000 ft. of flammable or explosive material, Secured Area

Facility 156

Selfridge AFB

Mt. Clemens Co: Macomb MI 48045-5295

Landholding Agency: Air Force

Property Number: 18199630009

Status: Unutilized

Reasons: Within 2000 ft. of flammable or explosive material, Secured Area

Facility 181

Selfridge AFB

Mt. Clemens Co: Macomb MI 48045-5295

Landholding Agency: Air Force

Property Number: 18199630010

Status: Unutilized

Reasons: Within 2000 ft. of flammable or explosive material, Secured Area

Facility 509

Selfridge AFB

Mt. Clemens Co: Macomb MI 48045-5295

Landholding Agency: Air Force

Property Number: 18199630011

Status: Unutilized

Reasons: Within 2000 ft. of flammable or explosive material, Secured Area

Facility 562

Selfridge AFB

Mt. Clemens Co: Macomb MI 48045-5295

Landholding Agency: Air Force

Property Number: 18199630012

Status: Unutilized

Reasons: Within 2000 ft. of flammable or explosive material, Secured Area

Facility 573

Selfridge AFB

Mt. Clemens Co: Macomb MI 48045-5295

Landholding Agency: Air Force

Property Number: 18199630013

Status: Unutilized

Reason: Secured Area

Facility 801

Selfridge AFB

Mt. Clemens Co: Macomb MI 48045-5295

Landholding Agency: Air Force

Property Number: 18199630014

Status: Unutilized

Reasons: Within 2000 ft. of flammable or explosive material, Secured Area

Facility 827

Selfridge AFB

Mt. Clemens Co: Macomb MI 48045-5295

Landholding Agency: Air Force

Property Number: 18199630015

Status: Unutilized

Reasons: Within 2000 ft. of flammable or explosive material, Secured Area

Facility 832

Selfridge AFB

Mt. Clemens Co: Macomb MI 48045-5295

Landholding Agency: Air Force

Property Number: 18199630016

Status: Unutilized

Reasons: Within 2000 ft. of flammable or explosive material, Secured Area

Facility 833

Selfridge AFB

Mt. Clemens Co: Macomb MI 48045-5295

Landholding Agency: Air Force

Property Number: 18199630017

Status: Unutilized

Reasons: Within 2000 ft. of flammable or explosive material, Secured Area

Facility 1005

Selfridge AFB

Mt. Clemens Co: Macomb MI 48045-5295

Landholding Agency: Air Force

Property Number: 18199630018

Status: Unutilized

Reason: Secured Area

Facility 1012

Selfridge AFB

Mt. Clemens Co: Macomb MI 48045-5295

Landholding Agency: Air Force

Property Number: 18199630019

Status: Unutilized

Reason: Secured Area

Facility 1017

Selfridge AFB

Mt. Clemens Co: Macomb MI 48045-5295

Landholding Agency: Air Force

Property Number: 18199630020

Status: Unutilized

Reason: Secured Area

Facility 1025

Selfridge AFB

Mt. Clemens Co: Macomb MI 48045-5295

Landholding Agency: Air Force

Property Number: 18199630021

Status: Unutilized

Reason: Secured Area

Facility 1031

Selfridge AFB

Mt. Clemens Co: Macomb MI 48045-5295

Landholding Agency: Air Force

Property Number: 18199630022

Status: Unutilized

Reason: Secured Area

Facility 1041

Selfridge AFB

Mt. Clemens Co: Macomb MI 48045-5295

Landholding Agency: Air Force

Property Number: 18199630023

Status: Unutilized

Reasons: Within 2000 ft. of flammable or explosive material, Secured Area

Facility 1445

Selfridge AFB

Mt. Clemens Co: Macomb MI 48045-5295

Landholding Agency: Air Force

Property Number: 18199630024

Status: Unutilized

Reasons: Within 2000 ft. of flammable or explosive material, Secured Area

Facility 1514

Selfridge AFB

Mt. Clemens Co: Macomb MI 48045-5295

Landholding Agency: Air Force

Property Number: 18199630025

Status: Unutilized

Reason: Secured Area

Facility 1575

Selfridge AFB

Mt. Clemens Co: Macomb MI 48045-5295

Landholding Agency: Air Force

Property Number: 18199630026

Status: Unutilized

Reasons: Within 2000 ft. of flammable or explosive material, Secured Area

Facility 1576

Selfridge AFB

Mt. Clemens Co: Macomb MI 48045-5295

Landholding Agency: Air Force

Property Number: 18199630027

Status: Unutilized

Reasons: Within 2000 ft. of flammable or explosive material, Secured Area

Facility 1578

Selfridge AFB

Mt. Clemens Co: Macomb MI 48045-5295

Landholding Agency: Air Force

Property Number: 18199630028

Status: Unutilized

Reasons: Within 2000 ft. of flammable or explosive material, Secured Area

Facility 1580

Selfridge AFB

Mt. Clemens Co: Macomb MI 48045-5295

Landholding Agency: Air Force

Property Number: 18199630029

Status: Unutilized

Reasons: Within 2000 ft. of flammable or explosive material, Secured Area

Facility 1582

Selfridge AFB

Mt. Clemens Co: Macomb MI 48045-5295

Landholding Agency: Air Force

Property Number: 18199630030

Status: Unutilized

Reasons: Within 2000 ft. of flammable or explosive material, Secured Area

Facility 1583

Selfridge AFB

Mt. Clemens Co: Macomb MI 48045-5295

Landholding Agency: Air Force

Property Number: 18199630031

Status: Unutilized

Reasons: Within 2000 ft. of flammable or explosive material, Secured Area

Facility 1584

Selfridge AFB

Mt. Clemens Co: Macomb MI 48045-5295

Landholding Agency: Air Force

Property Number: 18199630032

Status: Unutilized

Reasons: Within 2000 ft. of flammable or explosive material, Secured Area

Facility 1585

Selfridge AFB

Mt. Clemens Co: Macomb MI 48045-5295

Landholding Agency: Air Force

Property Number: 18199630033

Status: Unutilized

Reason: Secured Area

Facilities 246, 248, 252-254

Selfridge Air National Guard

Mt. Clemens Co: Macomb MI 48045-5295

Landholding Agency: Air Force

Property Number: 18199710039

Status: Unutilized

Reasons: Within 2000 ft. of flammable or explosive material, Secured Area

7 Facilities

Selfridge Air National Guard

#240, 242, 244, 245, 247,

250, 251

Mt. Clemens Co: Macomb MI 48045-5295

Landholding Agency: Air Force

Property Number: 18199710040

Status: Unutilized

Reasons: Within 2000 ft. of flammable or explosive material, Secured Area

Facilities 237, 238

Selfridge Air National Guard

Mt. Clemens Co: Macomb MI 48045-5295

Landholding Agency: Air Force

Property Number: 18199710041

Status: Unutilized

Reasons: Within 2000 ft. of flammable or explosive material, Secured Area

5 Facilities

Selfridge Air National Guard 228, 230, 232, 234, 236

Mt. Clemens Co: Macomb MI 48045-5295

Landholding Agency: Air Force

Property Number: 18199710042

Status: Unutilized

Reasons: Within 2000 ft. of flammable or explosive material, Secured Area

Facility 114

Selfridge Air National Guard

Mt. Clemens Co: Macomb MI 48045-5295

Landholding Agency: Air Force

Property Number: 18199710043

Status: Unutilized

Reasons: Within 2000 ft. of flammable or explosive material, Secured Area

Bldg. 114

Alpena CRTC

Alpena Co: MI 49707-

Landholding Agency: Air Force

Property Number: 18199930009

Status: Unutilized

Reason: Secured Area

Bldg. 318

Alpena CFTC

Alpena Co: MI 49707-

Landholding Agency: Air Force

Property Number: 18199930010

Status: Unutilized

Reason: Secured Area

Quarters B

U.S. Coast Guard

Marquette MI 49855-

Landholding Agency: DOT

Property Number: 87199740001

Status: Unutilized

Reason: Secured Area

Mississippi

Natchez Moorings

82 L.E. Berry Road

Natchez Co: Adams MS 39121-

Landholding Agency: DOT

Property Number: 87199340002

Status: Unutilized

Reason: Extensive deterioration

Bldg. 6, Boiler Plant

Biloxi VA Medical Center

Biloxi Co: Harrison MS 39531-

Landholding Agency: VA

Property Number: 97199410001

Status: Unutilized

Reason: Floodway

Bldg. 67

Biloxi VA Medical Center

Biloxi Co: Harrison MS 39531-

Landholding Agency: VA

Property Number: 97199410008

Status: Unutilized

Reason: Floodway

Bldg. 68

Biloxi VA Medical Center

Biloxi Co: Harrison MS 39531-

Landholding Agency: VA

Property Number: 97199410009

Status: Unutilized

Reason: Floodway

Montana

Bldg. 1189, Malstrom AFB

Malmstrom AFB Co: Cascade MT 59402-

Landholding Agency: Air Force

Property Number: 18199540013

Status: Underutilized

Reason: Secured Area

Bldg. 23

Great Falls ANG Station

Great Falls Co: Cascade MT 59404-

Landholding Agency: Air Force

Property Number: 18199720030

Status: Excess

Reasons: Within 2000 ft. of flammable or explosive material, Secured Area

Bldg. 24

Great Falls ANG Station

Great Falls Co: Cascade MT 59404-

Landholding Agency: Air Force

Property Number: 18199720031

Status: Excess

Reasons: Within 2000 ft. of flammable or explosive material, Secured Area

Bldg. 35

Great Falls ANG Station

Great Falls Co: Cascade MT 59404-

Landholding Agency: Air Force

Property Number: 18199720033

Status: Excess

Reasons: Within 2000 ft. of flammable or explosive material, Secured Area

Bldg. 230, Malstrom AFB

Malmstrom AFB

Malmstrom AFB Co: Cascade MT 59402-

Landholding Agency: Air Force

Property Number: 1819910012

Status: Unutilized

Reasons: Within 2000 ft. of flammable or explosive material, Secured Area

Bldg. 22

Great Falls IAP

Great Falls Co: Cascade MT 59404-5570

Landholding Agency: Air Force

Property Number: 18199820019

Status: Underutilized

Reasons: Within 2000 ft. of flammable or explosive material, Secured Area

Bldg. 803

Malmstrom AFB

Co: Cascade MT 59402-

Landholding Agency: Air Force

Property Number: 18199840003

Status: Unutilized

Reasons: Within 2000 ft. of flammable or explosive material Secured Area

Bldg. 1846

Malmstrom AFB

Co: Cascade MT 59402-

Landholding Agency: Air Force

Property Number: 18199840005

Status: Unutilized

Reasons: Within 2000 ft. of flammable or explosive material Secured Area

Bldgs. 1218, 1220

Malmstrom Air Force Base

Malmstrom AFB Co: Cascade MT 59402-

Landholding Agency: Air Force

Property Number: 18199920005

Status: Unutilized

Reasons: Within 2000 ft. of flammable or explosive material Secured Area

Bldgs. 1210, 1212, 1214, 1216

Malmstrom Air Force Base

Malmstrom AFB Co: Cascade MT 59402-

Landholding Agency: Air Force

Property Number: 18199920006

Status: Unutilized

Reasons: Within 2000 ft. of flammable or explosive material Secured Area

Bldgs. 920, 1242

Malmstrom AFB

Malmstrom AFB Co: Cascade MT 59402-

Landholding Agency: Air Force

Property Number: 1820001006

Status: Unutilized

Reason: Secured Area

Nebraska

Offutt Communciations Annex-#3

Offutt Air Force Base

Scribner Co: Dodge NE 68031-

Landholding Agency: Air Force

Property Number: 18199210006

Status: Unutilized

Reason: former sewage lagoon

Bldg. 637

Lincoln Municipal Airport

2301 West Adams

Lincoln Co: Lancaster NE 68524-

Landholding Agency: Air Force

Property Number: 18199230021

Status: Unutilized

Reason: Extensive deterioration

Bldg. 639

Lincoln Municipal Airport

2301 West Adams

Lincoln Co: Lancaster NE 68524-

Landholding Agency: Air Force

Property Number: 18199230022

Status: Unutilized

Reason: Extensive deterioration

Bldg. 31

Offutt Air Force Base

Sac Boulevard

Offutt Co: Sarpy NE 68113-

Landholding Agency: Air Force

Property Number: 18199240007

Status: Unutilized

Reason: Secured Area

Bldg. 311

Offutt Air Force Base

Nelson Drive

Offutt Co: Sarpy NE 68113-

Landholding Agency: Air Force

Property Number: 18199240008

Status: Unutilized

Reason: Secured Area

Bldg. 401

Offutt Air Force Base

Custer Drive

Offutt Co: Sarpy NE 68113-

Landholding Agency: Air Force

Property Number: 18199240009

Status: Unutilized

Reason: Secured Area

Bldg. 416

Offutt Air Force Base

Sherman Turnpike

Offutt Co: Sarpy NE 68113-

Landholding Agency: Air Force

Property Number: 18199240010

Status: Unutilized

Reason: Secured Area

Bldg. 417

Offut Air Force Base

Sherman Turnpike

Offut Co: Sarpy NE 68113-

Landholding Agency: Air Force

Property Number: 18199240011

Status: Unutilized

Reason: Secured Area

Bldg. 545

Offut Air Force Base

Offut Co: Sarpy NE 68113-

Landholding Agency: Air Force

Property Number: 18199240012

Status: Unutilized

Reason: Secured Area

Bldg. 21

Hastings Radar Bomb Scoring Site

Hasting Co: Adams NE 68901—

Landholding Agency: Air Force

Property Number: 18199320058

Status: Excess

Reason: Generator

Bldg. 4, Hastings Family Hsg.

Hastings Radar Bomb Scoring Site

Hasting Co: Adams NE 68901—

Landholding Agency: Air Force

Property Number: 18199320059

Status: Excess

Reason: Contamination

Bldg. 500

Hasting Family Housing

Hastings Radar Bomb Scoring Site

Hasting Co: Adams NE 68901—

Landholding Agency: Air Force

Property Number: 18199320060

Status: Excess

Reason: Contamination

Bldg. 502

Hasting Family Housing

Hastings Radar Bomb Scoring Site

Hasting Co: Adams NE 68901—

Landholding Agency: Air Force

Property Number: 18199320061

Status: Excess

Reason: Contamination

Bldg. 504

Hasting Family Housing

Hastings Radar Bomb Scoring Site

Hasting Co: Adams NE 68901-

Landholding Agency: Air Force

Property Number: 18199320062

Status: Excess

Reason: Contamination

Bldg. 506

Hasting Family Housing

Hastings Radar Bomb Scoring Site

Hastings Co: Adams NE 68901-

Landholding Agency: Air Force

Property Number: 18199320063

Status: Excess

Reason: Contamination

Bldg. 507

Hasting Family Housing

Hastings Radar Bomb Scoring Site

Hastings Co: Adams NE 68901-

Landholding Agency: Air Force

Property Number: 18199320064

Status: Excess

Reason: Contamination

Bldg. 509

Hasting Family Housing

Hastings Radar Bomb Scoring Site

Hastings Co: Adams NE 68901-

Landholding Agency: Air Force

Property Number: 18199320065

Status: Excess

Reason: Contamination

Bldg. 511

Hasting Family Housing

Hastings Radar Bomb Scoring Site

Hastings Co: Adams NE 68901-

Landholding Agency: Air Force

Property Number: 18199320066

Status: Excess

Reason: Contamination

Bldg. 512

Hasting Family Housing

Hastings Radar Bomb Scoring Site

Hastings Co: Adams NE 68901-

Landholding Agency: Air Force

Property Number: 18199320067

Status: Excess

Reason: Contamination

Bldg. 515

Hastings Family Housing

Hastings Radar Bomb Scoring Site

Hastings Co: Adams NE 68901-

Landholding Agency: Air Force

Property Number 18199320068

Status: Excess

Reason: Contamination

Bldg. 517

Hastings Family Housing

Hastings Radar Bomb Scoring Site

Hastings Co: Adams NE 68901-

Landholding Agency: Air Force

Property Number 18199320069

Status: Excess

Reason: Contamination

Bldg. 519

Hastings Family Housing

Hastings Radar Bomb Scoring Site

Hastings Co: Adams NE 68901-

Landholding Agency: Air Force

Property Number 18199320070

Status: Excess

Reason: Contamination

Bldg. 521

Hastings Family Housing

Hastings Radar Bomb Scoring Site

Hastings Co: Adams NE 68901-

Landholding Agency: Air Force

Property Number 18199320071

Status: Excess

Reason: Contamination

Bldg. 523

Hastings Family Housing

Hastings Radar Bomb Scoring Site

Hastings Co: Adams NE 68901-

Landholding Agency: Air Force

Property Number 18199320072

Status: Excess

Reason: Contamination

Bldg. 525

Hastings Family Housing

Hastings Radar Bomb Scoring Site

Hastings Co: Adams NE 68901-

Landholding Agency: Air Force

Property Number 18199320073

Status: Excess

Reason: Contamination

Bldg. 526

Hastings Family Housing

Hastings Radar Bomb Scoring Site

Hastings Co: Adams NE 68901-

Landholding Agency: Air Force

Property Number 18199320074

Status: Excess

Reason: Contamination

Bldg. 529

Hastings Family Housing

Hastings Radar Bomb Scoring Site

Hastings Co: Adams NE 68901-

Landholding Agency: Air Force

Property Number 18199320075

Status: Excess

Reason: Contamination

Bldg. 531

Hastings Family Housing

Hastings Radar Bomb Scoring Site

Hastings Co: Adams NE 68901-

Landholding Agency: Air Force

Property Number 18199320076

Status: Excess

Reason: Contamination

Bldg. 533

Hastings Family Housing

Hastings Radar Bomb Scoring Site

Hastings Co: Adams NE 68901-

Landholding Agency: Air Force

Property Number 18199320077

Status: Excess

Reason: Contamination

Bldg. 534

Hastings Family Housing

Hastings Radar Bomb Scoring Site

Hastings Co: Adams NE 68901-

Landholding Agency: Air Force

Property Number 18199320078

Status: Excess

Reason: Contamination

Bldg. 536

Hastings Family Housing

Hastings Radar Bomb Scoring Site

Hastings Co: Adams NE 68901-

Landholding Agency: Air Force

Property Number 18199320079

Status: Excess

Reason: Contamination

Bldg. 538

Hastings Family Housing

Hastings Radar Bomb Scoring Site

Hastings Co: Adams NE 68901-

Landholding Agency: Air Force

Property Number: 18199320080

Status: Excess

Reason: Contamination

Bldg. 541

Hastings Family Housing

Hastings Radar Bomb Scoring Site

Hastings Co: Adams NE 68901-

Landholding Agency: Air Force

Property Number: 18199320081

Status: Excess

Reason: Contamination

Bldg. 542

Hastings Family Housing

Hastings Radar Bomb Scoring Site

Hastings Co: Adams NE 68901-

Landholding Agency: Air Force

Property Number: 18199320082

Status: Excess

Reason: Contamination

Bldg. 544

Hastings Family Housing

Hastings Radar Bomb Scoring Site

Hastings Co: Adams NE 68901-

Landholding Agency: Air Force

Property Number: 18199320083

Status: Excess

Reason: Contamination

Bldg. 546

Hastings Family Housing

Hastings Radar Bomb Scoring Site

Hastings Co: Adams NE 68901-

Landholding Agency: Air Force

Property Number: 18199320084

Status: Excess

Reason: Contamination

Bldg. 549

Hastings Family Housing

Hastings Radar Bomb Scoring Site

Hastings Co: Adams NE 68901-

Landholding Agency: Air Force

Property Number: 18199320085

Status: Excess

Reason: Contamination

Bldg. 550

Hastings Family Housing

Hastings Radar Bomb Scoring Site

Hastings Co: Adams NE 68901-

Landholding Agency: Air Force

Property Number: 18199320086

Status: Excess

Reason: Contamination

Bldg. 552

Hastings Family Housing

Hastings Radar Bomb Scoring Site

Hastings Co: Adams NE 68901-

Landholding Agency: Air Force

Property Number: 18199320087

Status: Excess

Reason: Contamination

Bldg. 553

Hastings Family Housing

Hastings Radar Bomb Scoring Site

Hastings Co: Adams NE 68901-

Landholding Agency: Air Force

Property Number: 18199320088

Status: Excess

Reason: Contamination

Bldg. 555

Hastings Family Housing

Hastings Radar Bomb Scoring Site

Hastings Co: Adams NE 68901-

Landholding Agency: Air Force

Property Number: 18199320089

Status: Excess

Reason: Contamination

Bldg. 557

Hastings Family Housing

Hastings Radar Bomb Scoring Site

Hastings Co: Adams NE 68901-

Landholding Agency: Air Force

Property Number: 18199320090

Status: Excess

Reason: Contamination

Bldg. 558

Hastings Family Housing

Hastings Radar Bomb Scoring Site

Hastings Co: Adams NE 68901-

Landholding Agency: Air Force

Property Number: 18199320091

Status: Excess

Reason: Contamination

Bldg. 560

Hastings Family Housing

Hastings Radar Bomb Scoring Site

Hastings Co: Adams NE 68901-

Landholding Agency: Air Force

Property Number: 18199320092

Status: Excess

Reason: Contamination

27 Detached Garages

Hastings Family Housing

Hastings Radar Bomb Scoring Site

Hastings Co: Adams NE 68901-

Landholding Agency: Air Force

Property Number: 18199320093

Status: Excess

Reason: Contamination

Bldg. 17

Hastings Radar Bomb Scoring Site

Hastings Co: Adams NE 68901-

Landholding Agency: Air Force

Property Number: 18199320094

Status: Excess

Reason: Contamination

Bldg. 16

Hastings Radar Bomb Scoring Site

Hastings Co: Adams NE 68901-

Landholding Agency: Air Force

Property Number: 18199320095

Status: Excess

Reason: Contamination

Bldg. 18

Hastings Radar Bomb Scoring Site

Hastings Co: Adams NE 68901-

Landholding Agency: Air Force

Property Number: 18199320096

Status: Excess

Reason: Contamination

Bldg. 6

Hastings Family Housing

Hastings Radar Bomb Scoring Site

Hastings Co: Adams NE 68901-

Landholding Agency: Air Force

Property Number: 18199320097

Status: Excess

Reason: Contamination

Bldg. 547

Hastings Family Housing

Hastings Radar Bomb Scoring Site

Hastings Co: Adams NE 68901-

Landholding Agency: Air Force

Property Number: 18199320098

Status: Excess

Reason: Contamination

Bldg. 604

Hastings Family Housing

Hastings Radar Bomb Scoring Site

Hastings Co: Adams NE 68901-

Landholding Agency: Air Force

Property Number: 18199320099

Status: Excess

Reason: Contamination

Bldg. 686

Offutt Air Force Base

Offutt Co: Sarpy NE 68113-

Landholding Agency: Air Force

Property Number: 18199510021

Status: Unutilized

Reason: Secured Area

Bldg. 439

Offutt Air Force Base

Offutt Co: Sarpy NE 68113-

Landholding Agency: Air Force

Property Number: 18199510022

Status: Unutilized

Reason: Secured Area

Bldg. 606

NE Air National Guard

Lincoln Co: Lancaster NE 68524-1888

Landholding Agency: Air Force

Property Number: 18199720028

Status: Underutilized

Reasons: Floodway, Secured Area

Bldg. 675

NE Air National Guard

Lincoln Co: Lancaster NE 68524-1888

Landholding Agency: Air Force

Property Number: 18199720029

Status: Unutilized

Reasons: Floodway, Secured Area

New Hampshire

Bldg. 117

New Boston Air Force Station

Amherst Co: Hillsborough NH 03031-1514

Landholding Agency: Air Force

Property Number: 18199920008

Status: Unutilized

Reasons: Within 2000 ft. of flammable or explosive material, Secured Area

Bldg. 129

New Boston Air Force Station

Amherst Co: Hillsborough NH 03031-1514

Landholding Agency: Air Force

Property Number: 18199920009

Status: Unutilized

Reasons: Within 2000 ft. of flammable or explosive material, Secured Area

Facility 5210

Newington POL DFS

Newington Co: Rockingham NH 03801-

Landholding Agency: Air Force

Property Number: 18199920010

Status: Excess

Reason: Within 2000 ft. of flammable or explosive material

Bldg. 155

Pease Air National Guard

Newington Co: Rockingham NH 03803-

Landholding Agency: Air Force

Property Number: 18199930011

Status: Unutilized

Reason: Within 2000 ft. of flammable or explosive material

New Jersey

Piers and Wharf

Station Sandy Hook

Highlands Co: Monmouth NJ 07732-5000

Landholding Agency: DOT

Property Number: 87199240009

Status: Unutilized

Reasons: Secured Area, Extensive deterioration

Chapel Hill Front Range

Light Tower

Middletown Co: Monmouth NJ 07748-

Landholding Agency: DOT

Property Number: 87199440002

Status: Unutilized

Reason: Skeletal tower

Bldg. 103

U.S. Coast Guard Station

Sandy Hook

Middleton Co: Monmouth NJ 07737-

Landholding Agency: DOT

Property Number: 87199610002

Status: Unutilized

Reason: Secured Area

New Mexico

Bldg. 831

833 CSG/DEER

Holloman AFB Co: Otero NM 88330-

Landholding Agency: Air Force

Property Number: 18199130333

Status: Unutilized

Reason: Secured Area

Bldg. 21

Holloman Air Force Base

Co: Otero NM 88330-

Landholding Agency: Air Force

Property Number: 18199240032

Status: Unutilized

Reason: Secured Area

Bldg. 80

Holloman Air Force Base

Co: Otero NM 88330-

Landholding Agency: Air Force

Property Number: 18199240033

Status: Unutilized

Reason: Secured Area

Bldg. 98

Holloman Air Force Base

Co: Otero NM 88330-

Landholding Agency: Air Force

Property Number: 18199240034

Status: Unutilized

Reason: Secured Area

Bldg. 324

Holloman Air Force Base

Co: Otero NM 88330-

Landholding Agency: Air Force

Property Number: 18199240035

Status: Unutilized

Reason: Secured Area

Bldg. 598

Holloman Air Force Base

Co: Otero NM 88330-

Landholding Agency: Air Force

Property Number 18199240036

Status: Unutilized

Reasons: Secured Area

Bldg. 801

Holloman Air Force Base

Co: Otero NM 88330-

Landholding Agency: Air Force

Property Number 18199240037

Status: Unutilized

Reasons: Secured Area

Bldg. 802

Holloman Air Force Base

Co: Otero NM 88330-

Landholding Agency: Air Force

Property Number 18199240038

Status: Unutilized

Reasons: Secured Area

Bldg. 1095

Holloman Air Force Base

Co: Otero NM 88330-

Landholding Agency: Air Force

Property Number 18199240039

Status: Unutilized

Reasons: Secured Area

Bldg. 1096

Holloman Air Force Base

Co: Otero NM 88330-

Landholding Agency: Air Force

Property Number 18199240040

Status: Unutilized

Reasons: Secured Area

Facility 321

Holloman Air Force Base

Co: Otero NM 88330-

Landholding Agency: Air Force

Property Number 18199240041

Status: Unutilized

Reasons: Secured Area

Facility 75115

Holloman Air Force Base

Co: Otero NM 88330-

Landholding Agency: Air Force

Property Number 18199240042

Status: Unutilized

Reasons: Secured Area

Bldg. 874

Holloman Air Force Base

Co: Otero NM 88330-

Landholding Agency: Air Force

Property Number 18199320041

Status: Unutilized

Reasons: Extensive Deterioration, Secured Area

Bldg. 1258

Holloman Air Force Base

Co: Otero NM 88330-

Landholding Agency: Air Force

Property Number 18199320042

Status: Unutilized

Reasons: Extensive Deterioration, Secured Area

Bldg. 134

Holloman Air Force Base

Co: Otero NM 88330-

Landholding Agency: Air Force

Property Number 18199430014

Status: Unutilized

Reasons: Secured Area

Bldg. 640

Holloman Air Force Base

Co: Otero NM 88330-

Landholding Agency: Air Force

Property Number 18199430015

Status: Unutilized

Reasons: Secured Area

Bldg. 703

Holloman Air Force Base

Co: Otero NM 88330-

Landholding Agency: Air Force

Property Number 18199430016

Status: Unutilized

Reasons: Within airport runway clear zone, Secured Area

Bldg. 813

Holloman Air Force Base

Co: Otero NM 88330-

Landholding Agency: Air Force

Property Number: 18199430017

Status: Unutilized

Reason: Secured Area

Bldg. 821

Holloman Air Force Base

Co: Otero NM 88330-

Landholding Agency: Air Force

Property Number: 18199430018

Status: Unutilized

Reason: Secured Area

Bldg. 829

Holloman Air Force Base

Co: Otero NM 88330-

Landholding Agency: Air Force

Property Number: 18199430019

Status: Unutilized

Reasons: Within airport runway clear zone, Secured Area

Bldg. 867

Holloman Air Force Base

Co: Otero NM 88330-

Landholding Agency: Air Force

Property Number: 18199430020

Status: Unutilized

Reason: Secured Area

Bldg. 884

Holloman Air Force Base

Co: Otero NM 88330-

Landholding Agency: Air Force

Property Number: 18199430021

Status: Unutilized

Reasons: Within airport runway clear zone, Secured Area

Bldg. 886

Holloman Air Force Base

Co: Otero NM 88330-

Landholding Agency: Air Force

Property Number: 18199430022

Status: Unutilized

Reasons: Within airport runway clear zone, Secured Area

Bldg. 908

Holloman Air Force Base

Co: Otero NM 88330-

Landholding Agency: Air Force

Property Number: 18199430023

Status: Unutilized

Reason: Secured Area

Bldg. 599

Holloman Air Force Base

Co: Otero NM 88330-

Landholding Agency: Air Force

Property Number: 18199510001

Status: Unutilized

Reason: Secured Area

Bldg. 600

Holloman Air Force Base

Co: Otero NM 88330-

Landholding Agency: Air Force

Property Number: 18199510002

Status: Unutilized

Reason: Secured Area

Bldg. 599

Holloman AFB

Co: Otero NM 88330-

Landholding Agency: Air Force

Property Number: 18199610007

Status: Unutilized

Reason: Secured Area

Bldg. 600

Holloman AFB

Co: Otero NM 88330-

Landholding Agency: Air Force

Property Number: 18199610008

Status: Unutilized

Reason: Secured Area

Bldg. 995

Holloman AFB

Co: Otero NM 88330-

Landholding Agency: Air Force

Property Number: 18199610009

Status: Unutilized

Reason: Secured Area

Bldg. 1257

Holloman AFB

Co: Otero NM 88330-

Landholding Agency: Air Force

Property Number: 18199740012

Status: Unutilized

Reason: Secured Area.

Bldg. 332

Holloman AFB

Co: Otero NM 88330-

Landholding Agency: Air Force

Property Number: 18199740013

Status: Unutilized

Reasons: Within 2000 ft. of flammable or explosive material, Secured Area,

Bldg. 205

Holloman AFB

Co: Otero NM 88330-

Landholding Agency: Air Force

Property Number: 18199740014

Status: Unutilized

Reasons: Within 2000 ft. of flammable or explosive material, Secured Area.

Bldg. 1089

Holloman AFB

Co: Otero NM 88330-

Landholding Agency: Air Force

Property Number: 18199830009

Status: Unutilized

Reason: Secured Area.

Bldg. 2149

Holloman AFB

Co: Otero NM 88330-

Landholding Agency: Air Force

Property Number: 18199830010

Status: Unutilized

Reasons: Within 2000 ft. of flammable or explosive material, Secured Area.

Bldg. 2151

Holloman AFB

Co: Otero NM 88330-

Landholding Agency: Air Force

Property Number: 18199830011

Status: Unutilized

Reasons: Within 2000 ft. of flammable or explosive material, Secured Area.

Bldg. 2176

Holloman AFB

Co: Otero NM 88330-

Landholding Agency: Air Force

Property Number: 18199830012

Status: Unutilized

Reasons: Within 2000 ft. of flammable or explosive material, Secured Area.

Bldg. 2178

Holloman AFB

Co: Otero NM 88330-

Landholding Agency: Air Force

Property Number: 18199830013

Status: Unutilized

Reasons: Within 2000 ft. of flammable or explosive material, Secured Area.

New York

Bldg. 626 (Pin: RVKQ)

Niagara Falls International Airport

914th Tactical Airlift Group

Niagara Falls Co: Niagara NY 14303-5000

Landholding Agency: Air Force

Property Number: 18199010075

Status: Unutilized

Reasons: Within 2000 ft. of flammable or explosive material, Secured Area.

New York

Bldg. 272

Griffiss Air Force Base

Rome Co: Oneida NY 13441-

Landholding Agency: Air Force

Property Number: 18199140022

Status: Excess

Reason; Secured Area.

Bldg. 888

Griffiss Air Force Base

Rome Co: Oneida NY 13441-

Landholding Agency: Air Force

Property Number: 18199140023

Status: Excess

Reason; Secured Area.

Facility 814, Griffiss AFB

NE of Weapons Storage Area

Rome Co: Oneida NY 13441-

Landholding Agency: Air Force

Property Number: 18199230001

Status: Excess

Reasons: Within airport runway clear zone, Secured Area.

Facility 808, Griffiss AFB

Perimeter Road

Rome Co: Oneida NY 13441-

Landholding Agency: Air Force

Property Number: 18199230002

Status: Excess

Reasons: Within airport runway clear zone, Secured Area.

Facility 807, Griffiss AFB

Perimeter Road

Rome Co: Oneida NY 13441-

Landholding Agency: Air Force

Property Number: 18199230003

Status: Excess

Reasons: Within airport runway clear zone, Secured Area.

Facility 126

Griffiss Air Force Base

Hanger Road

Rome Co: Oneida NY 1344-4520

Landholding Agency: Air Force

Property Number: 18199240020

Status: Unutilized

Reason: Secured Area.

Facility 127

Griffiss Air Force Base

Hanger Road

Rome Co: Oneida NY 13441-4520

Landholding Agency: Air Force

Property Number: 18199240021

Status: Unutilized

Reason: Secured Area.

Facility 135

Griffiss Air Force Base

Hanger Road

Rome Co: Oneida NY 13441-4520

Landholding Agency: Air Force

Property Number: 18199240022

Status: Unutilized

Reason: Secured Area.

Facility 137

Griffiss Air Force Base

Otis Street

Rome Co: Oneida NY 13441-4520

Landholding Agency: Air Force

Property Number: 18199240023

Status: Unutilized

Reason: Secured Area.

Facility 138

Griffiss Air Force Base

Otis Street

Rome Co: Oneida NY 13441-4520

Landholding Agency: Air Force

Property Number: 18199240024

Status: Unutilized

Reason: Secured Area.

Facility 173

Griffiss Air Force Base

Selfridge Street

Rome Co: Oneida NY 13441-4520

Landholding Agency: Air Force

Property Number: 18199240025

Status: Unutilized

Reason: Secured Area.

Facility 261

Griffiss Air Force Base

McDill Street

Rome Co: Oneida NY 13441-4520

Landholding Agency: Air Force

Property Number: 18199240026

Status: Unutilized

Reason: Secured Area.

Facility 308

Griffiss Air Force Base

205 Chanute Street

Rome Co: Oneida NY 13441-4520

Landholding Agency: Air Force

Property Number: 18199240027

Status: Unutilized

Reason: Secured Area.

Facility 1200

Griffiss Air Force Base

Donaldson Road

Rome Co: Oneida NY 13441-4520

Landholding Agency: Air Force

Property Number: 18199240028

Status: Unutilized

Reason: Secured Area.

Facility 841

Griffiss Air Force Base

Rome Co: Oneida NY 1344-4520

Landholding Agency: Air Force

Property Number: 18199330097

Status: Unutilized

Reason: Secured Area.

Bldg. 740

Niagara Falls Air Force Reserve

Niagara Falls Co: Niagara NY 14304-5001

Landholding Agency: Air Force

Property Number: 18199720026

Status: Unutilized

Reasons: Within airport runway clear zone Floodway, Secured Area.

Bldg. 629

Hancock Field

Syracuse Co: Onondaga NY 13211-

Landholding Agency: Air Force

Property Number: 18199730006

Status: Unutilized

Reasons: Within 2000 ft. of flammable or explosive material, Secured Area.

Bldg. 604

Hancock Field

Syracuse Co: Onondaga NY 13211-

Landholding Agency: Air Force

Property Number: 18199810016

Status: Unutilized

Reasons: Within 2000 ft. of flammable or explosive material, Secured Area.

Bldg. 606

Hancock Field

Syracuse Co: Onondaga NY 13211-

Landholding Agency: Air Force

Property Number: 18199810017

Status: Unutilized

Reasons: Within 2000 ft. of flammable or explosive material, Secured Area.

Bldg. 615

Hancock Field

Syracuse Co: Onondaga NY 13211-

Landholding Agency: Air Force

Property Number: 18199810018

Status: Unutilized

Reasons: Within 2000 ft. of flammable or explosive material, Secured Area.

Bldg. 629

Hancock Field

Syracuse Co: Onondaga NY 13211-

Landholding Agency: Air Force

Property Number: 18199810019

Status: Unutilized

Reasons: Within 2000 ft. of flammable or explosive material, Secured Area.

Bldg. 630

Hancock Field

Syracuse Co: Onondaga NY 13211-

Landholding Agency: Air Force

Property Number: 18199810020

Status: Unutilized

Reasons: Within 2000 ft. of flammable or explosive material, Secured Area.

Bldg. 635

Hancock Field

Syracuse Co: Onondaga NY 13211-

Landholding Agency: Air Force

Property Number: 18199810021

Status: Unutilized

Reasons: Within 2000 ft. of flammable or explosive material, Secured Area.

Bldg. 640

Hancock Field

Syracuse Co: Onondaga NY 13211-

Landholding Agency: Air Force

Property Number: 18199810022

Status: Unutilized

Reasons: Within 2000 ft. of flammable or explosive material, Secured Area.

Bldg. 733

Hancock Field

Syracuse Co: Onondaga NY 13211-

Landholding Agency: Air Force

Property Number: 18199810023

Status: Unutilized

Reasons: Within 2000 ft. of flammable or explosive material, Secured Area.

Bldg. 514

Niagara Falls ARS

Niagara Falls Co: Niagara NY 14304-5001

Landholding Agency: Air Force

Property Number: 18199810024

Status: Unutilized

Reasons: Floodway Secured Area, Extensive deterioration.

Bldg. 614

Niagara Falls AFR

Niagara Falls Co: Niagara NY 14305-5001

Landholding Agency: Air Force

Property Number: 18199830014

Status: Unutilized

Reasons: Within 2000 ft. of flammable or explosive material, Secured Area, Extensive deterioration.

Bldg. 722

Niagara Falls AFR

Niagara Falls Co: Niagara NY 14305-5001

Landholding Agency: Air Force

Property Number: 18199830015

Status: Unutilized

Reasons: Within 2000 ft. of flammable or explosive material, Secured Area, Extensive deterioration

Bldg. 750

Niagara Falls AFR

Niagara Falls Co: Niagara NY 14305-5001

Landholding Agency: Air Force

Property Number: 18199830016

Status: Unutilized

Reasons: Within 2000 ft. of flammable or explosive material, Secured Area, Extensive deterioration

Bldg. 751

Niagara Falls AFR

Niagara Falls Co: Niagara NY 14305-5001

Landholding Agency: Air Force

Property Number: 18199830017

Status: Unutilized

Reasons: Within 2000 ft. of flammable or explosive material, Secured Area, Extensive deterioration

Facility 1200

Verona Test Annex

Town of Verona Co: Oneida NY 13478-

Landholding Agency: Air Force

Property Number: 18199920011

Status: Unutilized

Reason: No public access

Facility 1202

Verona Test Annex

Town of Verona Co: Oneida NY 13478-

Landholding Agency: Air Force

Property Number: 18199920012

Status: Unutilized

Reason: No public access

Facility 1203

Verona Test Annex

Town of Verona Co: Oneida NY 13478-

Landholding Agency: Air Force

Property Number: 18199920013

Status: Unutilized

Reason: No public access

Facility 1204

Verona Test Annex

Town of Verona Co: Oneida NY 13478-

Landholding Agency: Air Force

Property Number: 18199920014

Status: Unutilized

Reason: No public access

Facility 1205

Verona Test Annex

Town of Verona Co: Oneida NY 13478-

Landholding Agency: Air Force

Property Number: 18199920015

Status: Unutilized

Reason: No public access

Facility 1206

Verona Test Annex

Town of Verona Co: Oneida NY 13478-

Landholding Agency: Air Force

Property Number: 18199920016

Status: Unutilized

Reason: No public access

Facility 1207

Verona Test Annex

Town of Verona Co: Oneida NY 13478-

Landholding Agency: Air Force

Property Number: 18199920017

Status: Unutilized

Reason: No public access

Facility 1208

Verona Test Annex

Town of Verona Co: Oneida NY 13478-

Landholding Agency: Air Force

Property Number: 18199920018

Status: Unutilized

Reason: No public access

Facility 1209

Verona Test Annex

Town of Verona Co: Oneida NY 13478-

Landholding Agency: Air Force

Property Number: 18199920019

Status: Unutilized

Reason: No public access

Facility 1210

Verona Test Annex

Town of Verona Co: Oneida NY 13478-

Landholding Agency: Air Force

Property Number: 18199920020

Status: Unutilized

Reason: no public access

Facility 1259

Verona Test Annex

Town of Verona Co: Oneida NY 13478-

Landholding Agency: Air Force

Property Number: 18199920021

Status: Unutilized

Reason: no public access

Facility 1260

Verona Test Annex

Town of Verona Co: Oneida NY 13478-

Landholding Agency: Air Force

Property Number: 18199920022

Status: Unutilized

Reason: no public access

2 Buildings

Ant Saugerties

Saugerties Co: Ulster NY 12477-

Landholding Agency: DOT

Property Number: 87199230005

Status: Unutilized

Reason: Extensive deterioration

Bldg. 606, Fort Totten

New York Co: Queens NY 11359-

Landholding Agency: DOT

Property Number: 87199240020

Status: Unutilized

Reason: Secured Area

Bldg. 607, Fort Totten

New York Co: Queens NY 11359-

Landholding Agency: DOT

Property Number: 87199240021

Status: Unutilized

Reasons: Extensive deterioration, Secured Area

Bldg. 605, Fort Totten

New York Co: Queens NY 11359-

Landholding Agency: DOT

Property Number: 87199240022

Status: Unutilized

Reasons: Extensive deterioration, Secured Area

Eatons Neck Station

U.S. Coast Guard

Huntington Co: Suffolk NY 11743-

Landholding Agency: DOT

Property Number: 87199310003

Status: Unutilized

Reasons: Secured Area, Extensive deterioration

Bldg. 517, USCG Support Center

Governors Island Co: Manhattan NY 10004-

Landholding Agency: DOT

Property Number: 87199320025

Status: Unutilized

Reason: Secured Area

Bldg. 138

U.S. Coast Guard Support Center

Governors Island Co: Manhattan NY 10004-

Landholding Agency: DOT

Property Number: 87199410003

Status: Unutilized

Reason: Secured Area

Bldg. 830

U.S. Coast Guard

Governors Island Co: Manhattan NY 10004-

Landholding Agency: DOT

Property Number: 87199420004

Status: Unutilized

Reason: Secured Area

Bldg. 8

Rosebank—Coast Guard Housing

Staten Island Co: Richmond NY 10301-

Landholding Agency: DOT

Property Number: 87199530009

Status: Unutilized

Reason: Secured Area

Bldg. 7

Rosebank—Coast Guard Housing

Staten Island Co: Richmond NY 10301-

Landholding Agency: DOT

Property Number: 87199530010

Status: Unutilized

Reasons: Secured Area, Extensive deterioration

Bldg. 222

Fort Wadsworth

Staten Island Co: Richmond NY 10305-

Landholding Agency: DOT

Property Number: 87199620003

Status: Unutilized

Reason: Secured Area

Bldg. 223

Fort Wadsworth

Staten Island Co: Richmond NY 10305-

Landholding Agency: DOT

Property Number: 87199620004

Status: Unutilized

Reason: Secured Area

Bldg. 205

Fort Wadsworth

Staten Island Co: Richmond NY 10305-

Landholding Agency: DOT

Property Number: 87199620005

Status: Unutilized

Reason: Secured Area

Bldg. 9

U.S. Coast Guard—Rosebank

Staten Island Co: Richmond NY 10301-

Landholding Agency: DOT

Property Number: 87199630027

Status: Excess

Reason: Secured Area

Bldg. 10

U.S. Coast Guard—Rosebank

Staten Island Co: Richmond NY 10301-

Landholding Agency: DOT

Property Number: 87199630028

Status: Excess

Reason: Secured Area

Bldg. 206, Rosebank

Staten Island Co: Richmond NY 10301-

Landholding Agency: DOT

Property Number: 87199630029

Status: Excess

Reason: Secured Area

Cottage

Coast Guard Station

Wellesley Island Co: Jefferson NY 13640-

Landholding Agency: DOT

Property Number: 87199940001

Status: Unutilized

Reasons: Secured Area, Extensive deterioration

North Carolina

Bldg. 4230—Youth Center

Cannon Ave.

Goldsboro Co: Wayne NC 27531-5005

Landholding Agency: Air Force

Property Number: 18199120233

Status: Underutilized

Reason: Secured Area

Bldg. 607, Pope Air Force Base

Fayetteville Co: Cumberland NC 28308-2890

Landholding Agency: Air Force

Property Number: 18199330041

Status: Unutilized

Reasons: Secured Area, Extensive deterioration

Bldg. 910, Pope Air Force Base

Fayetteville Co: Cumberland NC 28308-2003

Landholding Agency: Air Force

Property Number: 18199420022

Status: Unutilized

Reasons: Secured Area, Extensive deterioration

Bldg. 912, Pope Air Force Base

Fayetteville Co: Cumberland NC 28308-2003

Landholding Agency: Air Force

Property Number: 18199420023

Status: Unutilized

Reasons: Secured Area, Extensive deterioration

Bldg. 914, Pope Air Force Base

Fayetteville Co: Cumberland NC 28308-2003

Landholding Agency: Air Force

Property Number: 18199420024

Status: Unutilized

Reasons: Secured Area, Extensive deterioration

Bldg. 633, Pope Air Force Base

Fayetteville Co: Cumberland NC 28308-

Landholding Agency: Air Force

Property Number: 18199540019

Status: Unutilized

Reasons: Secured Area, Extensive deterioration

Group Cape Hatteras

Boiler Plant

Buxton Co: Dare NC 27902-0604

Landholding Agency: DOT

Property Number: 87199240018

Status: Unutilized

Reason: Secured Area

Group Cape Hatteras

Bowling Alley

Buxton Co: Dare NC 27902-0604

Landholding Agency: DOT

Property Number: 87199240019

Status: Unutilized

Reason: Secured Area

Bldg. 54

Group Cape Hatteras

Buxton Co: Dare NC 27902-0604

Landholding Agency: DOT

Property Number: 87199340004

Status: Unutilized

Reason: Secured Area

Bldg. 83

Group Cape Hatteras

Buxton Co: Dare NC 27902-0604

Landholding Agency: DOT

Property Number: 87199340005

Status: Unutilized

Reason: Secured Area

Water Tanks

Groups Cape Hatteras

Buxton Co: Dare NC 27902-0604

Landholding Agency: DOT

Property Number: 87199340006

Status: Unutilized

Reason: Secured Area

USCG Gentian (WLB 290)

Fort Macon State Park

Atlantic Beach Co: Carteret NC 27601-

Landholding Agency: DOT

Property Number: 87199420007

Status: Excess

Reason: Secured Area

Unit #71

Buxton Annex, Cape Kendrick Circle

Landholding Agency: DOT

Property Number: 878199530011

Status: Unutilized

Reason: Floodway

Unit #72

Buxton Annex, Cape Kendrick Circle

Buxton Co: Dare NC 27920-

Landholding Agency: DOT

Property Number: 87199530012

Status: Unutilized

Reason: Floodway

Unit #73

Buxton Annex, Cape Kendrick Circle

Buxton Co: Dare NC 27920-

Landholding Agency: DOT

Property Number: 87199530013

Status: Unutilized

Reason: Floodway

Unit #74

Buxton Annex, Cape Kendrick Circle

Buxton Co: Dare NC 27920-

Landholding Agency: DOT

Property Number: 87199530014

Status: Unutilized

Reason: Floodway

Unit #75

Buxton Annex, Cape Kendrick Circle

Buxton Co: Dare NC 27920-

Landholding Agency: DOT

Property Number: 87199530015

Status: Unutilized

Reason: Floodway

Unit #63

Buxton Annex, Anna May Court

Buxton Co: Dare NC 27920-

Landholding Agency: DOT

Property Number: 87199530016

Status: Unutilized

Reason: Floodway

Unit #64

Buxton Annex, Anna May Court

Buxton Co: Dare NC 27920-

Landholding Agency: DOT

Property Number: 87199530017

Status: Unutilized

Reason: Floodway

Unit #76

Buxton Annex, Anna May Court

Buxton Co: Dare NC 27920-

Landholding Agency: DOT

Property Number: 87199530018

Status: Unutilized

Reason: Floodway

Unit #68

Buxton Annex, Anna May Court

Buxton Co: Dare NC 27920-

Landholding Agency: DOT

Property Number: 87199530019

Status: Unutilized

Reason: Floodway

Unit #69

Buxton Annex, Anna May Court

Buxton Co: Dare NC 27920-

Landholding Agency: DOT

Property Number: 87199530020

Status: Unutilized

Reason: Floodway

Unit #70

Buxton Annex, Anna May Court

Buxton Co: Dare NC 27920-

Landholding Agency: DOT

Property Number: 87199530021

Status: Unutilized

Reason: Floodway

Unit #77

Buxton Annex, Old Lighthouse Road

Buxton Co: Dare NC 27920-

Landholding Agency: DOT

Property Number: 87199530022

Status: Unutilized

Reason: Floodway

Unit #78

Buxton Annex, Old Lighthouse Road

Buxtom Co: Dare NC 27920-

Landholding Agency: DOT

Property Number: 87199530023

Status: Unutilized

Reason: Floodway

Bldg. 45

Coast Guard Support Center

Elizabeth City Co: Pasquotank NC 27909-5006

Landholding Agency: DOT

Property Number: 87199630020

Status: Unutilized

Reason: Secured Area

Bldg. 47

Coast Guard Support Center

Elizabeth City Co: Pasquotank NC 27909-5006

Landholding Agency: DOT

Property Number: 87199630021

Status: Unutilized

Reason: Secured Area

Bldg. 53

Coast Guard Support Center

Elizabeth City Co: Pasquotank NC 27909-5006

Landholding Agency: DOT

Property Number: 87199630022

Status: Unutilized

Reason: Secured Area

Bldg. 57

Coast Guard Support Center

Elizabeth City Co: Pasquotank NC 27909-5006

Landholding Agency: DOT

Property Number: 87199630023

Status: Unutilized

Reason: Secured Area

Quarters 1

USCG Station

Hobucken Co: Pamlico NC 28537-

Landholding Agency: DOT

Property Number: 87199940003

Status: Unutilized

Reasons: Secured Area, Extensive deterioration

Bldg. 9

VA Medical Center

1100 Tunnel Road

Asheville Co: Buncombe NC 28805-

Landholding Agency: VA

Property Number: 97199010008

Status: Unutilized

Reason: Extensive deterioration

Bldg. 422

Minot Air Force Base

Minot Co: Ward ND 58705-

Landholding Agency: Air Force

Property Number: 18199010724

Status: Underutilized

Reason: Secured Area

Bldg. 50

Fortuna Air Force Station

Extreme northwestern corner

of North Dakota

Fortuna Co: Divide ND 58844-

Landholding Agency: Air Force

Property Number: 18199310107

Status: Excess

Reason: garbage incinerator

Bldg. 119

Minot Air Force Base

Minot Co: Ward ND 58701-

Landholding Agency: Air Force

Property Number: 18199320034

Status: Unutilized

Reason: Secured Area

Bldg. 526

Minot Air Force Base

Minot Co: Ward ND 58701-

Landholding Agency: Air Force

Property Number: 18199320038

Status: Unutilized

Reason: Secured Area

Bldg. 895

Minot Air Force Base

Minot Co: Ward ND 58701-

Landholding Agency: Air Force

Property Number: 18199320039

Status: Unutilized

Reason: Secured Area

Ohio

14 Bldgs.

Area B, Wright-Patterson AFB

Co: Montgomery OH 45433-

Location:

6036, 38, 42, 44, 45, 49, 54, 64, 65, 69, 75

Landholding Agency: Air Force

Property Number: 18199820030

Status: Unutilized

Reason: Within airport runway clear zone

Bldgs. 6104, 08, 09

Area B, Wright-Patterson AFB

Co: Montgomery OH 45433-

Landholding Agency: Air Force

Property Number: 18199820044

Status: Unutilized

Reason: Within airport runway clear zone

Bldg. 522

Youngstown Air Reserve

Vienna Co: Trumbull OH 44473-0910

Landholding Agency: Air Force

Property Number: 18200010007

Status: Unutilized

Reasons: Within 2000 ft. of flammable or explosive material, Secured Area, Extensive deterioration

Bldg. 116

VA Medical Center

Dayton Co: Montgomery OH 45428-

Landholding Agency: VA

Property Number 97199920002

Status: Unutilized

Reason: Extensive deterioration

Bldg. 217

VA Medical Center

Dayton Co: Montgomery OH 45428-

Landholding Agency: VA

Property Number: 97199920003

Status: Unutilized

Reason: Extensive deterioration

Bldg. 402

VA Medical Center

Dayton Co: Montgomery OH 45428-

Landholding Agency: VA

Property Number: 97199920004

Status: Unutilized

Reason: Extensive deterioration

Bldg. 105

VA Medical Center

Dayton Co: Montgomery OH 45428-

Landholding Agency: VA

Property Number: 97199920005

Status: Unutilized

Reason: Extensive deterioration

Bldg. 010

Tulsa IAP Base

Tulsa OK 74115-1699

Landholding Agency: Air Force

Property Number: 18199820031

Status: Unutilized

Reasons: Within 2000 ft. of flammable on explosive material, Secured Area

Bldg. 305

Tulsa IAP Base

Tulsa OK 74115-1699

Landholding Agency: Air Force

Property Number: 18199820032

Status: Unutilized

Reasons: Within 2000 ft. of flammable on explosive material, Secured Area

Oregon

Bldg. 8

USCG Tongue Point Moorings

Astoria Co: OR 97103-2099

Landholding Agency: DOT

Property Number: 87199910001

Status: Unutilized

Reason: Extensive deterioration

Duplex

Cape Blanco

Sixes Co: Curry OR 97465-

Landholding Agency: DOT

Property Number: 87199940002

Status: Unutilized

Reason: Extensive deterioration

Puerto Rico

NAFA Warehouse

U.S. Coast Guard Air Station

Borinquen

Aquadilla PR 00604-

Landholding Agency: DOT

Property Number: 87199310011

Status: Unutilized

Reason: Secured Area

Storage Equipment Bldg.

U.S. Coast Guard Air Station

Borinquen

Aquadilla PR 00604-

Landholding Agency: DOT

Property Number: 87199330001

Status: Unutilized

Reason: Secured Area

Bldg. 115

U.S. Coast Guard Base

San Juan PR 00902-2029

Landholding Agency: DOT

Property Number: 87199510001

Status: Unutilized

Reason: Secured Area

Bldg. 117

U.S. Coast Guard Base

San Juan PR 00902-2029

Landholding Agency: DOT

Property Number: 87199510002

Status: Unutilized

Reason: Secured Area

Bldg. 118

U.S. Coast Guard Base

San Juan PR 00902-2029

Landholding Agency: DOT

Property Number: 87199510003

Status: Unutilized

Reason: Secured Area

Bldg. 119

U.S. Coast Guard Base

San Juan PR 00902-2029

Landholding Agency: DOT

Property Number: 87199510004

Status: Unutilized

Reason: Secured Area

Bldg. 120

U.S. Coast Guard Base

San Juan PR 00902-2029

Landholding Agency: DOT

Property Number: 87199510005

Status: Unutilized

Reason: Secured Area

Bldg. 122

U.S. Coast Guard Base

San Juan PR 00902-2029

Landholding Agency: DOT

Property Number: 87199510006

Status: Unutilized

Reason: Secured Area

Bldg. 128

U.S. Coast Guard Base

San Juan PR 00902-2029

Landholding Agency: DOT

Property Number: 87199510007

Status: Unutilized

Reason: Secured Area

Bldg. 129

U.S. Coast Guard Base

San Juan PR 00902-2029

Landholding Agency: DOT

Property Number: 87199510008

Status: Unutilized

Reason: Secured Area

Rhode Island

Station Point Judith Pier

Narranganset Co: Washington RI 02882-

Landholding Agency: DOT

Property Number: 87199310002

Status: Unutilized

Reason: Extensive deterioration

South Dakota

Bldg. 200, South Nike Ed Annex

Ellsworth Air Force Base

Ellsworth AFB Co: Pennington SD 57706-

Landholding Agency: Air Force

Property Number: 18199320048

Status: Unutilized

Reason: Extensive deterioration

Bldg. 201, South Nike Ed Annex

Ellsworth Air Force Base

Ellsworth AFB Co: Pennington SD 57706-

Landholding Agency: Air Force

Property Number: 18199320049

Status: Unutilized

Reason: Extensive deterioration

Bldg. 203, South Nike Ed Annex

Ellsworth Air Force Base

Ellsworth AFB Co: Pennington SD 57706-

Landholding Agency: Air Force

Property Number: 18199320050

Status: Unutilized

Reason: Extensive deterioration

Bldg. 204, South Nike Ed Annex

Ellsworth Air Force Base

Ellsworth AFB Co: Pennington SD 57706-

Landholding Agency: Air Force

Property Number: 18199320051

Status: Unutilized

Reason: Extensive deterioration

Bldg. 205, South Nike Ed Annex

Ellsworth Air Force Base

Ellsworth AFB Co: Pennington SD 57706-

Landholding Agency: Air Force

Property Number: 18199320052

Status: Unutilized

Reason: Extensive deterioration

Bldg. 206, South Nike Ed Annex

Ellsworth Air Force Base

Ellsworth AFB Co: Pennington SD 57706-

Landholding Agency: Air Force

Property Number: 18199320053

Status: Unutilized

Reason: Extensive deterioration

Bldg. 88470

Ellsworth Air Force Base

Ellsworth AFB Co: Meade SD 57706-

Landholding Agency: Air Force

Property Number: 18199340033

Status: Unutilized

Reasons: Within 2000 ft. of flammable or explosive material, Secured Area

Bldg. 7506

Ellsworth Air Force Base

Ellsworth AFB Co: Meade SD 57706-

Landholding Agency: Air Force

Property Number: 18199340037

Status: Unutilized

Reason: Secured Area

Bldg. 111

Ellsworth Air Force Base

Ellsworth AFB Co: Meade SD 57706-

Landholding Agency: Air Force

Property Number: 18199730007

Status: Unutilized

Reason: Secured Area

Bldg. 7530

Ellsworth AFB

Ellsworth AFB Co: Meade SD 57706-

Landholding Agency: Air Force

Property Number: 18199810025

Status: Unutilized

Reason: Secured Area

Bldg. 7504

Ellsworth AFB

Co: Meade SD 57706-

Landholding Agency: Air Force

Property Number: 18199820034

Status: Underutilized

Reasons: Within 2000 ft. of flammable or explosive material Within airport runway clear zone, Secured Area

Bldg. 4001

Ellsworth AFB

Co: Meade SD 57706-

Landholding Agency: Air Force

Property Number: 18199820035

Status: Unutilized

Reason: Secured Area

Bldg. 7239

Ellsworth AFB

Co: Meade SD 57706-

Landholding Agency: Air Force

Property Number: 18199820036

Status: Unutilized

Reasons: Within 2000 ft. of flammable or explosive material, Within airport runway clear zone, Secured Area

Bldg. 1102

Ellsworth AFB

Co: Meade SD 57706-

Landholding Agency: Air Force

Property Number: 18199820037

Status: Unutilized

Reason: Secured Area

Bldg. 88307

Ellsworth AFB

Co: Meade SD 57706-

Landholding Agency: Air Force

Property Number: 18199820038

Status: Unutilized

Reasons: Within 2000 ft. of flammable or explosive material, Secured Area

Bldg. 88320

Ellsworth AFB

Co: Meade SD 57706-

Landholding Agency: Air Force

Property Number: 18199820039

Status: Unutilized

Reasons: Within 2000 ft. of flammable or explosive material, Secured Area

Bldg. 608

Ellsworth Air Force Base

Ellsworth AFB Co: Pennington SD 57706-

Landholding Agency: Air Force

Property Number: 18199920023

Status: Unutilized

Reasons: Within 2000 ft. of flammable or explosive material, Within airport runway clear zone, Secured Area

Bldg. 3501

Ellsworth Air Force Base

Ellsworth AFB Co: Pennington SD 57706-

Landholding Agency: Air Force

Property Number: 18199920024

Status: Unutilized

Reason: Secured Area

5 Bldgs.

Ellsworth Air Force Base 6926, 6928, 6929, 6930, 6931

Ellsworth AFB Co: Pennington SD 57706-

Landholding Agency: Air Force

Property Number: 18199920025

Status: Unutilized

Reason: Secured Area

Bldg. 8001

Ellsworth Air Force Base

Ellsworth AFB Co: Pennington SD 57706-

Landholding Agency: Air Force

Property Number: 18199920026

Status: Unutilized

Reason: Secured Area

Bldg. 609

Ellsworth Air Force Base

Ellsworth AFB Co: Pennington SD 57706-

Landholding Agency: Air Force

Property Number: 18199930012

Status: Unutilized

Reason: Within 2000 ft. of flammable or explosive material, Secured Area

Bldg. 7911

Ellsworth Air Force Base

Ellsworth AFB Co: Pennington SD 57706-

Landholding Agency: Air Force

Property Number: 18199930013

Status: Unutilized

Reason: Secured Area

Texas

Old Exchange Bldg.

U.S. Coast Guard

Galveston CO: Galveston TX 77553-3001

Landholding Agency: DOT

Property Number: 87199310012

Status: Unutilized

Reason: Secured Area

WPB Building

Station Port Isabel

Coast Guard Station

South Padre Island CO: Cameron TX 78597-6497

Landholding Agency: DOT

Property Number: 87199530002

Status: Unutilized

Reason: Floodway

Aton Shops Building

USCG Station Sabine

Sabine Co: Jefferson TX 77655-

Landholding Agency: DOT

Property Number: 87199530003

Status: Unutilized

Reasons: Within 2000 ft. of flammable or explosive material, Secured Area

WPB Storage Shed

USCG Station Sabine

Sabine Co: Jefferson TX 77655-

Landholding Agency: DOT

Property Number: 87199530004

Status: Unutilized

Reasons: Within 2000 ft. of flammable or explosive material, Secured Area

Flammable Storage Building

USCG Station Sabine

Sabine Co: Jefferson TX 77655-

Landholding Agency: DOT

Property Number: 87199530005

Status: Unutilized

Reasons: Within 2000 ft. of flammable or explosive material, Secured Area

Battery Storage Building

USCG Station Sabine

Sabine Co: Jefferson TX 77655-

Landholding Agency: DOT

Property Number: 87199530006

Status: Unutilized

Reasons: Within 2000 ft. of flammable or explosive material, Secured Area

Boat House

USCG Station Sabine

Sabine Co: Jefferson TX 77655-

Landholding Agency: DOT

Property Number: 87199530007

Status: Unutilized

Reasons: Within 2000 ft. of flammable or explosive material, Secured Area

Small Boat Pier

USCG Station Sabine

Sabine Co: Jefferson TX 77655-

Landholding Agency: DOT

Property Number: 87199530008

Status: Unutilized

Reasons: Within 2000 ft. of flammable or explosive material, Secured Area

Bldg. 108

Fort Crockett/43rd St. Housing

Galveston Co: Galveston TX 77553-

Landholding Agency: DOT

Property Number: 87199630008

Status: Unutilized

Reason: Extensive deterioration

Utah

Bldg. 789

Hill Air Force Base

(See County) Co: Davis UT 84056-

Landholding Agency: Air Force

Property Number: 18199040859

Status: Unutilized

Reasons: Within airport runway clear zone, Secured Area

Vermont

Facility 100

Burlington IAP

Burlington Co: Chittenden VT 05403-5872

Landholding Agency: Air Force

Property Number: 18199730008

Status: Excess

Reasons: Within 2000 ft. of flammable or explosive material

Depot Street

Downtown at the Waterfront

Burlington Co: Chittenden VT 05401-5226

Landholding Agency: DOT

Property Number: 87199220003

Status: Excess

Reason: Floodway

Virginia

Bldg. 417

Camp Pendleton

Virginia Beach VA 23451-

Landholding Agency: Air Force

Property Number: 18199710003

Status: Unutilized

Reason: Extensive deterioration

Bldg. 418

Camp Pendleton

Virginia Beach VA 23451-

Landholding Agency: Air Force

Property Number: 18199710004

Status: Unutilized

Reason: Extensive deterioration

Bldg. 052 & Tennis Court

USCG Reserve Training Center

Yorktown Co: York VA 23690-

Landholding Agency: DOT

Property Number: 87199230004

Status: Excess

Reason: Secured Area

Admin. Bldg.

Coast Guard, Group Eastern Shores

Chincoteague Co: Accomack VA 23361-510

Landholding Agency: DOT

Property Number: 87199240014

Status: Unutilized

Reason: Secured Area

Little Creek Station

Navamphib Base, West Annex,

U.S. Coast Guard

Norfolk Co: Princess Anne VA 23520-

Landholding Agency: DOT

Property Number: 87199310004

Status: Unutilized

Reason: Secured Area

Operations Bldg.

U.S. Coast Guard Group

Hampton Roads

Portsmouth VA 23703-

Landholding Agency: DOT

Property Number: 87199710003

Status: Unutilized

Reason: Secured Area

Washington

Bldg. 100, Geiger Heights

Grove and Hallet Streets

Fairchild AFB Co: Spokane WA 99204-

Landholding Agency: Air Force

Property Number: 18199210004

Status: Unutilized

Reason: Extensive deterioration

Bldg. 2000

Fairchild Air Force Base

Fairchild AFB Co: Spokane WA 99011-

Landholding Agency: Air Force

Property Number: 18199310058

Status: Unutilized

Reasons: Within 2000 ft. of flammable or explosive material, Secured Area

Facility 2450

Fairchild Air Force Base

Fairchild AFB Co: Spokane WA 99011-

Landholding Agency: Air Force

Property Number; 18199310065

Status: Unutilized

Reasons: Within 200 ft. of flammable or explosive material, Secured Area

Bldg. 1, Waste Annex

West of Craig Road

Co: Spokane WA 99022-

Landholding Agency: Air Force

Property Number; 18199320043

Status: Unutilized

Reason: Secured Area

Pistol Range Bldg.

USCG Port Angeles

Port Angeles Co: Clallam WA 98362-0159

Landholding Agency: DOT

Property Number; 87199630030

Status: Unutilized

Reasons: Within airport runway clear zone, Secured Area, Extensive deterioration

Floating Boathouse

Bellingham Co: Whatcom WA 98225-

Landholding Agency: DOT

Property Number; 87199820001

Status: Excess

Reason: Inaccessible

Quarters 8, 10, 12, 14

USCG Station Cape

Disappointment

Ilwaco Co: Pacific WA 98624-

Landholding Agency: DOT

Property Number: 87199930001

Status: Unutilized

Reason: Extensive deterioration

Wisconsin

Rawley Point Light

Two Rivers Co: Manitowoc WI

Landholding Agency: DOT

Property Number; 87199540004

Status: Unutilized

Reasons: Secured Area, Extensive deterioration

Wyoming

Bldg 31

F.E. Warren Air Force Base

Cheyenne Co: Laramie WY 82005-

Landholding Agency: Air Force

Property Number; 18199010198

Status: Unutilized

Reason: Secured Area

Bldg 284

F.E. Warren Air Force Base

Cheyenne Co: Laramie WY 82005-

Landholding Agency: Air Force

Property Number; 18199010201

Status: Unutilized

Reason: Secured Area

Bldg 385

F.E. Warren Air Force Base

Cheyenne Co: Laramie WY 82005-

Landholding Agency: Air Force

Property Number; 18199010202

Status: Unutilized

Reason: Secured Area

Bldg 2565-2571

F.E. Warren AFB

Cheyenne Co: Laramie WY 82005-5000

Landholding Agency: Air Force

Property Number; 18199720001

Status: Unutilized

Reasons: Secured Area, Extensive deterioration

Bldg 2564, 2572

F.E. Warren AFB

Cheyenne Co: Laramie WY 82005-5000

Landholding Agency: Air Force

Property Number; 18199720002

Status: Unutilized

Reasons: Secured Area, Extensive deterioration

9 Bldgs.

F.E. Warren AFB

2982-2986, 2989, 2991, 2994-2995

Cheyenne Co: Laramie WY 82005-5000

Landholding Agency: Air Force

Property Number; 18199720003

Status: Unutilized

Reasons: Secured Area, Extensive deterioration

6 Bldgs.

F.E. Warren AFB

2768, 2772, 2773, 2993, 2980, 2988

Cheyenne Co: Laramie WY 82005-5000

Landholding Agency: Air Force

Property Number 18199720004

Status: Unutilized

Reasons: Secured Area, Extensive deterioration

8 Bldgs.

F.E. Warren AFB

2784, 2762-2764, 2769, 2775, 2777, 2981

Cheyenne Co: Laramie WY 82005-5000

Landholding Agency: Air Force

Property Number 18199720005

Status: Unutilized

Reasons: Secured Area, Extensive deterioration

8 Bldgs.

F.E. Warren AFB

2785-2786, 2770-2771, 2774, 2776, 2990, 2992

Cheyenne Co: Laramie WY 82005-5000

Landholding Agency: Air Force

Property Number 18199720006

Status: Unutilized

Reasons: Secured Area, Extensive deterioration

Bldgs. 2460-2468

F.E. Warren AFB

Cheyenne Co: Laramie WY 82005-5000

Landholding Agency: Air Force

Property Number 18199830018

Status: Unutilized

Reasons: Secured Area, Extensive deterioration

9 Bldgs.

F.E. Warren AFB

Cheyenne Co: Laramie WY 82005-5000

Location: 2469, 2470, 2508-2511, 2520, 2523, 2528

Landholding Agency: Air Force

Property Number 18199830019

Status: Unutilized

Reasons: Secured Area, Extensive deterioration

9 Bldgs.

F.E. Warren AFB

Cheyenne Co: Laramie WY 82005-5000

Location: 2471-2472, 2502, 2504-2507, 2544

Landholding Agency: Air Force

Property Number 18199830020

Status: Unutilized

Reasons: Secured Area, Extensive deterioration

8 Bldgs.

F.E. Warren AFB

Cheyenne Co: Laramie WY 82005-5000

Location: 2473, 2500, 2503, 2547, 2557, 2601, 2613, 2625

Landholding Agency: Air Force

Property Number 18199830021

Status: Unutilized

Reasons: Secured Area, Extensive deterioration

9 Bldgs.

F.E. Warren AFB

Cheyenne Co: Laramie WY 82005-5000

Location: 2512, 2514-2517, 2418, 2519, 2524, 2525

Landholding Agency: Air Force

Property Number 18199830022

Status: Unutilized

Reasons: Secured Area, Extensive deterioration

9 Bldgs.

F.E. Warren AFB

Cheyenne Co: Laramie WY 82005-5000

Location: 2513, 2530. 2537, 2606, 2626, 2700, 2707, 2720, 2750

Landholding Agency: Air Force

Property Number 18199830023

Status: Unutilized

Reasons: Secured Area, Extensive deterioration

9 Bldgs.

F.E. Warren AFB

Cheyenne Co: Laramie WY 82005-5000

Location: 2526, 2527, 2532-2534, 2439, 2608, 2610, 2612

Landholding Agency: Air Force

Property Number 18199830024

Status: Unutilized

Reasons: Secured Area, Extensive deterioration

9 Bldgs.

F.E. Warren AFB

Cheyenne Co: Laramie WY 82005-5000

Location: 2529, 2531, 2535-2536, 2538, 2540-2543

Landholding Agency: Air Force

Property Number 18199830025

Status: Unutilized

Reasons: Secured Area, Extensive deterioration

9 Bldgs.

F.E. Warren AFB

Cheyenne Co: Laramie WY 82005-5000

Location: 2545, 2546, 2548-2554

Landholding Agency: Air Force

Property Number 18199830026

Status: Unutilized

Reasons: Secured Area, Extensive deterioration

9 Bldgs.

F.E. Warren AFB

Cheyenne Co: Laramie WY 82005-5000

Location: 2555, 2556, 2559, 2603, 2605, 2607, 2609, 2611

Landholding Agency: Air Force

Property Number: 18199830027

Status: Unutilized

Reasons: Secured Area, Extensive deterioration

9 Bldgs.

F.E. Warren AFB

Cheyenne Co: Laramie WY 82005-5000

Location: 2560, 2561, 2600, 2602, 2604, 2701, 2702, 2704, 2705

Landholding Agency: Air Force

Property Number: 18199830028

Status: Unutilized

Reasons: Secured Area, Extensive deterioration

9 Bldgs.

F.E. Warren AFB

Cheyenne Co: Laramie WY 82005-5000

Location: 2614, 2616, 2618, 2620, 2622, 2624, 2714, 2722

Landholding Agency: Air Force

Property Number: 18199830029

Status: Unutilized

Reasons: Secured Area, Extensive deterioration

6 Bldgs.

F.E. Warren AFB

Cheyenne Co: Laramie WY 82005-5000

Location: 2615, 2617, 2619, 2621, 2623, 2627

Landholding Agency: Air Force

Property Number: 18199830030

Status: Unutilized

Reasons: Secured Area, Extensive deterioration

9 Bldgs.

F.E. Warren AFB

Cheyenne Co: Laramie WY 82005-5000

Location: 2706, 2708-2713, 2715, 2716

Landholding Agency: Air Force

Property Number: 18199830031

Status: Unutilized

Reasons: Secured Area, Extensive deterioration

9 Bldgs.

F.E. Warren AFB

Cheyenne Co: Laramie WY 82005-5000

Location: 2717, 2719, 2721, 2727, 2728, 2751, 2753, 2757, 2759

Landholding Agency: Air Force

Property Number: 18199830032

Status: Unutilized

Reasons: Secured Area, Extensive deterioration

10 Bldgs.

F.E. Warren AFB

Cheyenne Co: Laramie WY 82005-5000

Location: 2723-2726, 2752, 2754-2756, 2758, 2703

Landholding Agency: Air Force

Property Number: 18199830033

Status: Unutilized

Reasons: Secured Area, Extensive deterioration

4 Bldgs.

F.E. Warren AFB

Cheyenne Co: Laramie WY 82005-5000

Location: 2739, 2740, 2760, 2761

Landholding Agency: Air Force

Property Number: 18199830034

Status: Unutilized

Reasons: Secured Area, Extensive deterioration

Bldg. 919

F.E. Warren AFB

Cheyenne Co: Laramie WY 82005-5000

Landholding Agency: Air Force

Property Number: 18199930015

Status: Unutilized

Reason: Secured Area

Bldg. 95

Medical Center

N.W. of town at the end of Fort Road

Sheridan Co: Sheridan WY 82801-

Landholding Agency: VA

Property Number: 97199110004

Status: Unutilized

Reason: Sewage digester for disposal plant

Bldg. 96

Medical Center

N.W. of town at the end of Fort Road

Sheridan Co: Sheridan WY 82801-

Landholding Agency: VA

Property Number: 97199110005

Status: Unutilized

Reason: Pump house for sewage disposal plant

Structure 99

Medical Center

N.W. of town at the end of Fort Road

Sheridan Co: Sheridan WY 82801-

Landholding Agency: VA

Property Number: 97199110006

Status: Unutilized

Reason: Mechanical screen for sewage disposal pl

Structure 100

Medical Center

N.W. of town at the end of Fort Road

Sheridan Co: Sheridan WY 82801-

Landholding Agency: VA

Property Number: 97199110007

Status: Unutilized

Reason: Dosing tank for sewage disposal plant.

Structure 101

Medical Center

N.W. of town at the end of Fort Road

Sheridan Co: Sheridan WY 82801-

Landholding Agency: VA

Property Number: 97199110008

Status: Unutilized

Reason: Chlorination chamber for sewage disposal

Bldg. 97, Medical Center

Sheridan Co: Sheridan WY 82801-

Landholding Agency: VA

Property Number: 97199410011

Status: Unutilized

Reason: Sewage disposal plant

Structure 98, Medical Center

Sheridan Co: Sheridan WY 82801-

Landholding Agency: VA

Property Number: 97199410012

Status: Unutilized

Reason: Sludge bed/sewage disposal plant

Bldg. 80

Medical Center

Sheridan WY 82801-

Landholding Agency: VA

Property Number: 97199840001

Status: Unutilized

Reasons: Floodway Extensive deterioration

Land (by State)

Alaska

Campion Air Force Station

21 CSG/DEER

Elmendorf AFB Co: Anchorage AK 99506-5000

Landholding Agency: Air Force

Property Number: 18199010430

Status: Unutilized

Reasons: Isolated area, Not accessible by road, Isolated and remote area; Arctic environ

Lake Louise Recreation

21 CSG-DEER

Elmendorf AFB Co: Anchorage AK 99506-5000

Landholding Agency: Air Force

Property Number: 18199010431

Status: Unutilized

Reasons: Isolated area, Not accessible by road, Isolated and remote area; Arctic coast.

Nikolski Radio Relay Site

21 CSG/DEER

Elmendorf AFB Co: Anchorage AK 99506-5000

Landholding Agency: Air Force

Property Number: 18199010432

Status: Unutilized

Reasons: Isolated area, Not accessible by road, Isolated and remote area; Arctic coast.

Russian Creek Aggregate Site

USCG Support Center Kodiak

Kodiak Co: Kodiak AK 99619-

Landholding Agency: DOT

Property Number: 87199440025

Status: Excess

Reason: Floodway

Sargent Creek Aggregate Site

USCG Support Center Kodiak

Kodiak Co: Kodiak AK 99619-

Landholding Agency: DOT

Property Number: 87199440026

Status: Excess

Reason: Floodway

Land—Sanak Island

106+ acres

Sanak Island Co: Sanak Harbor AK

Landholding Agency: DOT

Property Number: 87199640003

Status: Unutilized

Reason: Inaccessible

Arizona

58 acres

VA Medical Center

500 Highway 89 North

Prescott Co: Yavapai AZ 86313-

Landholding Agency: VA

Property Number: 97190630001

Status: Unutilized

Reason: Floodway

20 acres

VA Medical Center

500 Highway 89 North

Prescott Co: Yavapai AZ 86313-

Landholding Agency: VA

Property Number: 97190630002

Status: Underutilized

Reason: Floodway

Florida

Land

MacDill Air Force Base

6601 S. Manhattan Avenue

Tampa Co: Hillsborough FL 33608-

Landholding Agency: Air Force

Property Number: 18199030003

Status: Excess

Reason: Floodway

Land—approx. 220 acres

Cape San Blas

Port St. Joe Co: Gulf FL

Landholding Agency: DOT

Property Number: 87199440018

Status: Underutilized

Reasons: Floodway, Secured Area

Wildlife Sanctuary, VAMC

10,000 Bay Pines Blvd.

Bay Pines Co: Pinellas FL 33504-

Landholding Agency: VA

Property Number: 97199230004

Status: Underutilized

Reason: Inaccessible

Maryland

Land

Brandywine Storage Annex

1776 ABW/DE Brandywine Road, Route 381

Andrews AFB CO; Prince Georges MD 20613-

Landholding Agency: Air Force Base

Property Number: 18199010263

Status: Underutilized

Reason: Secured Area

Michigan

Middle Marker Facility

Yipsilanti Co: Washtenaw MI 48198-

Location: 549 Ft. north of intersection of Coolidge and Bradley Ave. on East side of street

Landholding Agency: DOT

Property Number: 87199120006

Status: Unutilized

Reason: Within airport runway clear zone

Minnesota

VAMC

VA Medical Center

4801 8th Street No.

St. Cloud Co: Sterns MN 56303-

Landholding Agency: VA

Property Number: 97199010049

Status: Underutilized

Reason: Within 2000 ft. of flammable or explosive material

3.85 acres (Area #2)

VA Medical Center

4801 8th Street No.

St. Cloud Co: Stearns MN 56303-

Landholding Agency: VA

Property Number: 97199740004

Status: Unutilized

Reason: Landlocked

7.48 acres (Area #1)

VA Medical Center

4801 8th Street

St. Cloud Co: Stearns MN 56303-

Landholding Agency: VA

Property Number: 97199740005

Status: Underutilized

Reason: Secured Area

New Mexico

Facility 75100

Holloman Air Force Base

Co: Otero NM 88330-

Landholding Agency: Air Force

Property Number: 18199240043

Status: Unutilized

Reason: Secured Area

New York

Tract 1

VA Medical Center

Bath Co: Steuben NY 14810-

Location: Exit 38 off New York State Route 17.

Landholding Agency: VA

Property Number: 97199010011

Status: Unutilized

Reason: Secured Area

Tract 2

VA Medical Center

Bath Co: Steuben NY 14810-

Location: Exit 38 off New York State Route 17.

Landholding Agency: VA

Property Number: 97199010012

Status: Underutilized

Reason: Secured Area

Tract 3

VA Medical Center

Bath Co: Steuben NY

Location: Exit 38 off New York State Route 17.

Landholding Agency: VA

Property Number: 97199010013

Status: Underutilized

Reason: Secured Area

Tract 4

VA Medical Center

Bath Co: Steuben NY 14810-

Location: Exit 38 off New York State Route 17.

Landholding Agency: VA

Property Number: 97199010014

Status: Unutilized

Reason: Secured Area

North Dakota

0.23 acres

Minot Middle Market Annex

Co: Ward ND 58705-

Landholding Agency: Air Force

Property Number: 18199810001

Status: Unutilized

Reason: Within airport runway clear zone

South Dakota

Badlands Bomb Range

60 miles southeast of Rapid City, SD

1½ miles south of Highway 44

Co: Shannon SD

Landholding Agency: Air Force

Property Number: 18199210003

Status: Unutilized

Reason: Secured Area

Utah

10.24 acres

Southern Utah Communication Site

Salt Lake UT

Landholding Agency: Air Force

Property Number: 18199810002

Status: Unutilized

Reason: Inaccessible

Washington

Fairchild AFB

SE corner of base

Fairchild AFB Co: Spokane WA 99011-

Landholding Agency: Air Force

Property Number: 18199010137

Status: Unutilized

Reason: Secured Area

Fairchild AFB

Fairchild AFB Co: Spokane WA 99011-

Location: NW corner of base

Landholding Agency: Air Force

Property Number: 18199010138

Status: Unutilized

Reason: Secured Area

Tract B-201

Geiger Heights Lagoon

Spokane Co: WA 99210-

Landholding Agency: Air Force

Property Number: 18199930014

Status: Excess

Reason: No public access.

[FR Doc. 00-4837 Filed 3-2-00; 8:45 am]

BILLING CODE 4210-29-M